DEPARTMENT OF HEALTH AND HUMAN SERVICES

42 CFR Parts 38, 50, 51, 51a, 51b, 51c, 51d, 52, 52a, 52b, 52c, 52d, 52e, 55a, 56, 57, 59, 59a, 62, 63a, 64, 65, 65a, 66, 67, 124, 136, 403, 417, 430, 433, 434, 435, 436, 438, 440, 441, 456, 457, and 1001

45 CFR Parts 16, 63, 75, 87, 95, 98, 261, 262, 263, 265, 286, 287, 301, 302, 303, 304, 309, 400, 1000, 1301, 1304, 1309, 1321, 1326, 1328, 1336, 1355, and 1357

RIN 0991-ZA46

Federal Awarding Agency Regulatory Implementation of Office of Management and Budget's Uniform Administrative Requirements, Cost Principles, and Audit Requirements for Federal Awards; Technical Amendments

AGENCY: Department of Health and Human Services.

ACTION: Interim final rule; technical amendments.

SUMMARY: This document contains technical amendments to HHS regulations regarding Uniform Administrative Requirements, Cost Principles, and Audit Requirements for Federal Awards. The regulatory content is being amended to add information that was erroneously omitted, to include updated cross-references within HHS' regulations, and to make grammatical corrections.

DATES: Effective January 20, 2016. Implementation Date: For all non-Federal entities, there is a two-year grace period for implementation of the procurement standards in 45 CFR 75.326 through 75.335.

FOR FURTHER INFORMATION CONTACT: Audrey E. Clarke, Ph.D., Division of Grants, Office of Grants and Acquisition Policy and Accountability, Office of the Assistant Secretary for Financial Resources, U.S. Department of Health and Human Services, 200 Independence Ave. SW., Room 529G.17, Washington, DC 20201; phone: (202) 720-1908; email: Audrey.Clarke@hhs.gov.

SUPPLEMENTARY INFORMATION: HHS is correcting its regulations in line with FR Doc. 2014-28697, published on December 19, 2014 (79 FR 75871), entitled “Federal Awarding Agency Regulatory Implementation of Office of Management and Budget's Uniform Administrative Requirements, Cost Principles, and Audit Requirements for Federal Awards”, the “Guidance for Reporting and Use of Information Concerning Recipient Integrity and Performance” to 2 CFR part 200, published on July 22, 2015 (80 FR 43301), and “Universal Identifier and System of Award Management; Corrections”, published on September 10, 2015 (80 FR 54407), made by the Office of Management and Budget (OMB). HHS adopts the correcting amendments made by OMB. HHS is also making amendments to address citation or grammatical inconsistencies, to amend incomplete statements in the regulation, and to update existing HHS regulations to incorporate 45 CFR part 75. The correcting amendments will go into effect at the time of publicatio

List of Subjects

42 CFR Part 38

Disaster assistance, Government contracts, Grant programs-health, mental health programs.

42 CFR Part 50

Administrative practice and procedure, Conflicts of interests, Drugs, Family planning, Grant programs-health, Grant programs-science and technology, Health care, Reporting and recordkeeping requirements, Research, Science and technology.

42 CFR Part 51

Administrative practice and procedure, Grant programs-health, Health facilities, Health records, mental health programs, Privacy, Reporting and recordkeeping requirements.

42 CFR Part 51a

Blood diseases, Colleges and Universities, Genetic diseases, Grant programs-Health, Maternal and Child Health, Medical research, and Recordkeeping requirements.

42 CFR Part 51b

Communicable diseases, Grant programs-health, Immunization, Maternal and Child health, Reporting and Recordkeeping requirements, Research, Venereal Diseases.

42 CFR Part 51c

Grant programs-health, Health care, Health facilities, Reporting and recordkeeping requirements.

42 CFR Part 51d

Administrative practice and procedure, Disaster assistance, Drug abuse, Emergency medical services, Grant programs-health, Health facilities, Mental health programs, Privacy, Reporting and recordkeeping requirements.

42 CFR Part 52

Grant programs-health, Medical research, Reporting and recordkeeping requirements.

42 CFR Part 52a

Blood diseases, Grant programs-health, Heart diseases, Lung diseases, Medical research, Reporting and recordkeeping requirements.

42 CFR Part 52b

Grant programs-health, Health facilities, Medical research, Reporting and recordkeeping requirements.

42 CFR Part 52c

Educational study programs, Grant programs-health, Medical research, Reporting and recordkeeping requirements.

42 CFR Part 52d

Cancer, Educational study programs, Grant programs-health, Health professions, Reporting and recordkeeping requirements.

42 CFR Part 52e

Blood diseases, Grant programs-health, Health care, Health diseases, Health professions, Lung diseases, Medical research, Reporting and recordkeeping requirements.

42 CFR Part 55a

Black lung benefits, Grant programs-health, Health care, Health facilities, Miners, Reporting and recordkeeping requirements.

42 CFR Part 56

Grant programs-health, Health care, Health facilities, Migrant labor, Reporting and, recordkeeping requirements.

42 CFR Part 57

Aged, Education of disadvantaged, Educational facilities, Educational study programs, Grant programs-education, Grant programs-health, Health facilities, Health professions, Loan programs-health, Medical and dental schools, Reporting and recordkeeping requirements, Scholarships and fellowships, Student aid.

42 CFR Part 59

Family planning, Grant programs-health, Grant programs-social programs, Health professions, Reporting and recordkeeping requirements, Youth.

42 CFR Part 59a

Grant programs-health, Libraries, Medical research, Reporting and recordkeeping requirements.

42 CFR Part 62

Educational study programs, Grant programs-education, Grant programs-health, Health professions, Loan programs-education, Loan programs-health, Reporting and recordkeeping requirements, Scholarships and fellowships.

42 CFR Part 63a

Grant programs-health, Medical research.

42 CFR Part 64

Educational study programs, Grant programs-education, Grant programs-health, Health professions, Libraries, Manpower training programs, Reporting and recordkeeping requirements.

42 CFR Part 65

Education, Grant programs-education, Grant programs-health, Hazardous waste, Nonprofit organizations, Occupational safety and health, Reporting and recordkeeping requirements.

42 CFR Part 65a

Grant programs-health, Hazardous waste, Medical research.

42 CFR Part 66

Grant programs-health, Health professions, Medical research.

42 CFR Part 67

Grant programs-health, Medical research, Reporting and recordkeeping requirements.

42 CFR Part 124

Grant programs-health, Health facilities, Reporting and recordkeeping requirements.

42 CFR Part 136

Employment, Government procurement, Health care, Health facilities, Indians, Infants and children, Maternal and child health, Penalties, Reporting and recordkeeping requirements.

42 CFR Part 403

Grant programs-health, Health insurance, Hospitals, Intergovernmental relations, Medicare, Reporting and recordkeeping requirements.

42 CFR Part 417

Administrative practice and procedure, Grant programs-health, Health care, Health insurance, Health maintenance organizations (HMO), Loan programs-health, Medicare, Reporting and recordkeeping requirements.

42 CFR Part 430

Administrative practice and procedure, Grant programs-health, Medicaid, Reporting and recordkeeping requirements.

42 CFR Part 433

Administrative practice and procedure, Child support, Claims, Grant programs-health, Medicaid, Reporting and recordkeeping requirements.

42 CFR Part 434

Grant programs-health, Health maintenance organizations (HMO), Medicaid, Reporting and recordkeeping requirements.

42 CFR Part 435

Aid to Families with Dependent Children, Grant programs-health, Medicaid, Reporting and recordkeeping requirements, Supplemental Security Income (SSI), Wages.

42 CFR Part 436

Aid to Families with Dependent Children, Grant programs-health, Guam, Medicaid, Puerto Rico, Supplemental Security Income (SSI), Virgin Islands.

42 CFR Part 438

Grant programs-health, Medicaid, Reporting and recordkeeping requirements.

42 CFR Part 440

Grant programs-health, Medicaid.

42 CFR Part 441

Aged, Family planning, Grant programs-health, Infants and children, Medicaid, Penalties, Reporting and recordkeeping requirements.

42 CFR Part 456

Administrative practice and procedure, Drugs, Grant programs-health, Health facilities, Medicaid, Reporting and recordkeeping requirements.

42 CFR Part 457

Administrative practice and procedure, Grant programs-health, Health insurance, Reporting and recordkeeping requirements.

42 CFR Part 1001

Administrative practice and procedure, Fraud, Grant programs-health, Health facilities, Health professions, Maternal and child health, Medicaid, Medicare, Social Security.

45 CFR Part 16

Administrative practice and procedure, Grant programs-health, Grant programs-social programs.

45 CFR Part 63

Grant programs-communications, Grant programs-education, Grant programs-health, Grant programs-social programs, Research, Telecommunications.

45 CFR Part 75

Accounting Auditing Administrative practice and procedure Colleges and universities Cost principles Grant programs Grant programs-health Grants administration Hospitals Indians Nonprofit organizations reporting and recordkeeping requirements and State and local governments.

45 CFR Part 87

Administrative practice and procedure, Grant programs-social programs, nonprofit organizations, Public assistance programs.

45 CFR Part 95

Claims, Computer technology, Grant programs-health, Grant programs-social programs, Reporting and recordkeeping requirements, Social security.

45 CFR Part 98

Administrative practice and procedure, Day care, Grant programs-Indians, Grant programs-social programs, Indians, Penalties, Religious discrimination, Reporting and recordkeeping, requirements.

45 CFR Parts 261, 262, 263, and 265

Administrative practice and procedure, Day care, Employment, Grant programs-social programs, Loan programs-social programs, Manpower training programs, Penalties, Public assistance, programs, Reporting and recordkeeping requirements.

45 CFR Parts 286

Administrative practice and procedure, Day care, Employment, Grant programs-social programs, Indians, Loan programs-social programs, Manpower training programs, Penalties, Public assistance programs, Reporting and recordkeeping requirements.

45 CFR Parts 287

Administrative practice and procedure, Employment, Grant programs-social programs, Indians, Loan programs-social programs, Manpower training programs, Penalties, Public assistance programs, Reporting and recordkeeping requirements.

45 CFR Parts 301, 303, and 304

Child support, Grant programs-social programs, Reporting and recordkeeping requirements.

45 CFR Part 302

Child support, Grant programs-social programs, Penalties, Reporting and recordkeeping, requirements, Unemployment compensation.

45 CFR Part 309

Child support, Grant programs-social programs, Indians, Reporting and recordkeeping, requirements.

45 CFR Part 400

Employment, Grant programs-social programs, Health care, Public assistance programs, Refugees, Reporting and recordkeeping requirements.

45 CFR Part 1000

Grant programs-social programs, Reporting and recordkeeping requirements.

45 CFR Part 1301

Administrative practice and procedure, Education of disadvantaged, Grant programs-social programs.

45 CFR Part 1304

Dental health, Education of disadvantaged, Grant programs-social programs, Health care, mental health programs, Nutrition, Reporting and recordkeeping requirements.

45 CFR Part 1309

Grant programs-social programs, Rates and Fares.

45 CFR Parts 1321

Administrative practice and procedure, Aged, Grant programs-Indians, Grant programs-social programs, Indians, Legal services, Nutrition, Reporting and recordkeeping requirements.

45 CFR Part 1326

Administrative practice and procedure, Aged, Grant programs-Indians, Grant programs-social programs, Indians, Nutrition, Reporting and recordkeeping requirements.

45 CFR Part 1328

Administrative practice and procedure, Aged, Grant programs-social programs, Hawaiian, Natives, Nutrition, Reporting and recordkeeping requirements.

45 CFR Part 1336

Administrative practice and procedure, American Samoa, Grant programs-Indians, Grant programs-social programs, Guam, Hawaiian Natives, Indians, Northern Mariana Islands, Reporting and recordkeeping requirements.

45 CFR Part 1355

Child welfare, Computer technology, Grant programs-social programs, Reporting and recordkeeping requirements.

45 CFR Part 1357

Adoption and foster care, Child welfare, Grant programs-social programs, Indians, Reporting and recordkeeping requirements.

Dated: December 14, 2015.
Ellen Murray,
Assistant Secretary for Financial Resources, Department of Health and Human Services.

Under the authority of (5 U.S.C. 301), the Department of Health and Human Services amends 42 CFR parts 38, 50, 51, 51a, 51b, 51c, 51d, 52, 52a, 52b, 52c, 52d, 52e, 55a, 56, 57, 59, 59a, 62, 63a, 64, 65, 65a, 66, 67, 124, 136, 403, 417, 430, 433, 434, 435, 436, 438, 440, 441, 456, 457, and 1001, and 45 CFR parts 16, 63, 75, 87, 95, 98, 261, 262, 263, 265, 286, 287, 301, 302, 303, 304, 309, 400, 1000, 1301, 1304, 1309, 1321, 1326, 1328, 1336, 1355, and 1357 by making the following correcting amendments:

Title 42—Public Health

PART 38—DISASTER ASSISTANCE FOR CRISIS COUNSELING AND TRAINING

1. The authority citation for part 38 continues to read as follows:

Authority: Sec. 413, Pub. L. 93-288. The Disaster Relief Act of 1974, 88 Stat. 157, 42 U.S.C. 5183, E.O. 11795, 39 FR 25939, as amended by E.O. 11910, 41 FR 15681.

§ 38.5 [Amended]

2. Amend § 38.5:

a. In paragraph (d) by removing “45 CFR part 74—Administration of grants” and “45 CFR part 75—Informal grant appeals procedures”;

b. In paragraph (d) by adding in alphanumeric order “45 CFR part 75—Uniform Administrative Requirements, Cost Principles, and Audit Requirements for HHS Awards”; and

c. In paragraph (e) by removing “subpart Q of 45 CFR part 74” and adding in its place “45 CFR part 75, subpart E”.

PART 50—POLICIES OF GENERAL APPLICABILITY

3. The authority citation for part 50 continues to read as follows:

Authority: Sec. 215, Public Health Service Act, 58 Stat. 690 (42 U.S.C. 216); Sec. 1006, Public Health Service Act, 84 Stat. 1507 (42 U.S.C. 300a-4), unless otherwise noted.

§ 50.309 [Amended]

4. Amend § 50.309, by removing “45 CFR 74.20 et seq” and adding in its place “45 CFR 75.361 et seq”.

§ 50.504 [Amended]

5. Amend § 50.504(a)(3), by removing “45 CFR part 74,” and adding in its place “45 CFR part 75, subpart E,”.

§ 50.604 [Amended]

6. Amend § 50.604(i), by removing “45 CFR 74.53(b) and 92.42(b)” and adding in its place “45 CFR 75.361”.

§ 50.606 [Amended]

7. Amend § 50.606(b), in the last sentence, by removing “special award conditions under 45 CFR 74.14 and 92.12, or suspension of funding or other enforcement action under 45 CFR 74.62 and 92.43,” and adding in its place “specific award conditions under 45 CFR 75.207, or suspension of funding or other enforcement action under 45 CFR 75.371,”.

§ 50.607 [Amended]

8. Amend § 50.607, by removing “45 CFR part 74—Uniform administrative requirements for awards and subawards to institutions of higher education, hospitals, other nonprofit organizations, and commercial organizations” and adding in alphanumeric order “45 CFR part 75—Uniform Administrative Requirements, Cost Principles, and Audit Requirements for HHS Awards” and removing “45 CFR part 92—Uniform administrative requirements for grants and cooperative agreements to State, local, and tribal governments”.

PART 51—REQUIREMENTS APPLICABLE TO THE PROTECTION AND ADVOCACY FOR INDIVIDUALS WITH MENTAL ILLNESS PROGRAM

9. The authority citation for part 51 continues to read as follows:

Authority: 42 U.S.C. 10801, et seq.

§ 51.4 [Amended]

10. Amend § 51.4:

a. By removing “45 CFR part 74—Administration of Grants.” and “45 CFR part 75—Informal Grants Appeals Procedures”;

b. By adding in alphanumeric order “45 CFR part 75—Uniform Administrative Requirements, Cost Principles, and Audit Requirements for HHS Awards.”; and

c. By removing “45 CFR part 92—Uniform administrative requirements for grants and cooperative agreements to State and Local Governments.”

§ 51.10 [Amended]

11. Amend § 51.10 by removing “45 CFR part 74” and adding in its place “45 CFR part 75”.

PART 51a—PROJECT GRANTS FOR MATERNAL AND CHILD HEALTH

12. The authority citation for part 51a continues to read as follows:

Authority: Sec. 1102 of the Social Security Act, 49 Stat. 647 (42 U.S.C. 1302); sec. 502(a), 502(b)(1)(A), and 506(a)(3) of the Social Security Act, 95 Stat. 819-20 (42 U.S.C. 702(a), 702(b)(1)(A) and 706(a)(3)).

§ 51a.7 [Amended]

13. Amend § 51a.7, in paragraph (b):

a. By removing “45 CFR part 74—Administration of grants to nonprofit organizations.” and “45 CFR part 75—Informal Grants Appeals Procedures”;

b. By adding in alphanumeric order “45 CFR part 75—Uniform Administrative Requirements, Cost Principles, and Audit Requirements for HHS Awards.”; and

c. By removing “45 CFR part 92—Uniform administrative requirements for grants and cooperative agreements to State and Local Governments.”

PART 51b—PROJECT GRANTS FOR PREVENTIVE HEALTH SERVICES

14. The authority citation for part 51b continues to read as follows:

Authority: Secs. 317 and 318, Public Health Service Act, 92 Stat. 3574 and 3582 (42 U.S.C. 247b, 247c); sec. 1743 Pub. L. 97-35, 95 Stat. 763 (31 U.S.C. 1243 note).

§ 51b.105 [Amended]

15. Amend § 51b.105, by removing “45 CFR part 74—Administration of grants” and “45 CFR part 75—Informal grant appeals procedures” and adding in alphanumeric order “45 CFR part 75—Uniform Administrative Requirements, Cost Principles, and Audit Requirements for HHS Awards”.

§ 51b.106 [Amended]

16. Amend § 51b.106(d), by removing “subpart Q of 45 CFR part 74” and adding in its place “45 CFR part 75, subpart E”.

PART 51c—GRANTS FOR COMMUNITY HEALTH SERVICES

17. The authority citation for part 51c continues to read as follows:

Authority: Sec. 330, Public Health Service Act, 89 Stat. 342, (42 U.S.C. 254c); sec. 215, Public Health Service Act, 58 Stat. 690, (42 U.S.C. 216).

§ 51c.107 [Amended]

18. Amend § 51c.107, in paragraph (a), by removing “subpart Q of 45 CFR part 74” and adding in its place “45 CFR part 75, subpart E” and in paragraph (b)(7), by removing “45 CFR part 74;” and adding in its place “45 CFR part 75;”.

§ 51c.112 [Amended]

19. Amend § 51c.112(c)(2)(iii) by removing “subparts F, M, and O of 45 CFR part 74” and adding in its place “45 CFR 75.307, 75.371 through 75.385, and 75.316-75.325”.

20. Revise § 51c.113 to read as follows:

§ 51c.113 Applicability of 45 CFR part 75.

The provisions of 45 CFR part 75, establishing uniform administrative requirements and cost principles, shall apply to all grants under this part.

§ 51c.502 [Amended]

21. Amend § 51c.502(a) by removing “45 CFR 74.132” and adding in its place “45 CFR 75.2”.

PART 51d—MENTAL HEALTH AND SUBSTANCE ABUSE EMERGENCY RESPONSE PROCEDURES

22. The authority citation for part 51d continues to read as follows:

Authority: 42 U.S.C. 290aa(m).

§ 51d.8 [Amended]

23. Amend § 51d.8:

a. By removing “45 CFR part 74—Administration of grants” and “45 CFR part 75—Informal grants appeals procedures”;

b. By adding in alphanumeric order “45 CFR part 75—Uniform Administrative Requirements, Cost Principles, and Audit Requirements for HHS Awards”; and

c. By removing “45 CFR part 92—Uniform administrative requirements for grants and cooperative agreements to state and local governments”.

§ 51d.10 [Amended]

24. Amend § 51d.10(a)(2) and (b)(2) by removing “45 CFR 92.41(b),” and adding in its place “45 CFR 75.341,”.

25. Amend § 51d.10(a)(3) and (b)(1), (b)(3), and (b)(4) by removing “45 CFR 92.50(b)” and adding in its place “CFR 75.342”.

PART 52—GRANTS FOR RESEARCH PROJECTS

26. The authority citation for part 52 continues to read as follows:

Authority: 42 U.S.C. 216.

§ 52.6 [Amended]

27. Amend § 52.6(a), in the last sentence, by removing “subpart Q of 45 CFR part 74” and adding in its place “45 CFR part 75, subpart E”.

§ 52.8 [Amended]

28. Amend § 52.8:

a. By removing “45 CFR part 74—Administration of grants.” and “45 CFR part 75—Informal grants appeals procedures”;

b. By adding in alphanumeric order “45 CFR part 75—Uniform Administrative Requirements, Cost Principles, and Audit Requirements for HHS Awards”; and

c. By removing “45 CFR part 92—Uniform administrative requirements for grants and cooperative agreements to state and local governments”.

PART 52a—NATIONAL INSTITUTES OF HEALTH CENTER GRANTS

29. The authority citation for part 52a continues to read as follows:

Authority: 42 U.S.C. 216, 284g, 285a-6(c)(1)(E), 285a-7(c)(1)(G), 285b-4, 285c-5, 285c-8, 285d-6, 285e-2, 285e-3, 285e-10a, 285f-1, 285g-5, 285g-7, 285g-9, 285m-3, 285o-2, 286a-7(c)(1)(G), 287c-32(c), 300cc-16.

§ 52a.4 [Amended]

30. Amend § 52a.4(i) by removing “45 CFR 74.40 through 74.47 and 45 CFR 92.25” and adding in its place “45 CFR 75.307”.

§ 52a.7 [Amended]

31. Amend § 52a.7 by removing “45 CFR 74.27.” and adding in its place “45 CFR part 75, subpart E.”.

§ 52a.8 [Amended]

32. Amend § 52a.8:

a. By removing “45 CFR part 74—Uniform administrative requirements for awards and subawards to institutions of higher education, hospitals, other nonprofit organizations, and commercial organizations; and certain grants and agreements with states, local governments and Indian tribal governments” and “45 CFR part 75—Informal grant appeals procedures”;

b. By adding in alphanumeric order “45 CFR part 75—Uniform Administrative Requirements, Cost Principles, and Audit Requirements for HHS Awards”; and

c. By removing “45 CFR part 92—Uniform administrative requirements for grants and cooperative agreements to State and local governments”.

PART 52b—NATIONAL INSTITUTES OF HEALTH CONSTRUCTION GRANTS

33. The authority citation for part 52b continues to read as follows:

Authority: 42 U.S.C. 216, 285a-2, 285a-3, 285b-3, 285b-4, 285d-6, 285i, 285m-3, 285o-4, 287a-2, 287a-3, 300cc-41.

§ 52b.7 [Amended]

34. Amend § 52b.7(c), in the last sentence, by removing “45 CFR part 74” and adding in its place “45 CFR part 75”.

§ 52b.14 [Amended]

35. Amend § 52b.14(b):

a. By removing “45 CFR part 74—Uniform administrative requirements for awards and subawards to institutions of higher education, hospitals, other nonprofit organizations, and commercial organizations; and certain grants and agreements with states, local governments and Indian tribal governments.”;

b. By adding in alphanumeric order “45 CFR part 75—Uniform Administrative Requirements, Cost Principles, and Audit Requirements for HHS Awards.”; and

c. By removing “45 CFR part 92—Uniform administrative requirements for grants and cooperative agreements to State and local governments.”.

PART 52c—MINORITY BIOMEDICAL RESEARCH SUPPORT PROGRAM

36. The authority citation for part 52c continues to read as follows:

Authority: 42 U.S.C. 216, 241(a)(3).

§ 52c.6 [Amended]

37. Amend § 52c.6(a) by removing “subpart Q of 45 CFR part 74” and adding in its place “45 CFR part 75, subpart E”.

§ 52c.7 [Amended]

38. Amend § 52c.7:

a. By removing “45 CFR part 74—Administration of grants” and “45 CFR part 75—Informal grants appeals procedures”;

b. By adding in alphanumeric order “45 CFR part 75—Uniform Administrative Requirements, Cost Principles, and Audit Requirements for HHS Awards”; and

c. By removing “45 CFR part 92—Uniform administrative requirements for grants and cooperative agreements to state and local governments.”.

PART 52d—NATIONAL CANCER INSTITUTE CLINICAL CANCER EDUCATION PROGRAM

39. The authority citation for part 52d continues to read as follows:

Authority: Sec. 215, 58 Stat. 690, as amended, 63 Stat. 835 (42 U.S.C. 216); sec. 404(a)(4), 92 Stat. 3426 (42 U.S.C. 285).

§ 52d.7 [Amended]

40. Amend § 52d.7 by removing “subpart Q of 45 CFR part 74” and adding in its place “45 CFR part 75, subpart E”.

§ 52d.8 [Amended]

41. Amend § 52d.8 by removing “45 CFR part 74—Administration of grants” and “45 CFR part 75—Informal grant appeals procedures” and adding in its place “45 CFR part 75—Uniform Administrative Requirements, Cost Principles, and Audit Requirements for HHS Awards”.

PART 52e—NATIONAL HEART, LUNG, AND BLOOD INSTITUTE GRANTS FOR PREVENTION AND CONTROL PROJECTS

42. The authority citation for part 52e continues to read as follows:

Authority: 42 U.S.C. 216, 285b-1.

§ 52e.6 [Amended]

43. Amend § 52e.6(e) by removing “subpart Q of 45 CFR part 74” and adding in its place “45 CFR part 75, subpart E”.

§ 52e.7 [Amended]

44. Amend § 52e.7(a) by removing “subpart Q of 45 CFR part 74” and adding in its place “45 CFR part 75, subpart E”.

§ 52e.8 [Amended]

45. Amend § 52e.8:

a. By removing “45 CFR part 74—Administration of grants” and “45 CFR part 75—Informal grants appeals procedures”;

b. By adding in alphanumeric order “45 CFR part 75—Uniform Administrative Requirements, Cost Principles, and Audit Requirements for HHS Awards”; and

c. By removing “45 CFR part 92—Uniform administrative requirements for grants and cooperative agreements to state and local governments”.

PART 55a—PROGRAM GRANTS FOR BLACK LUNG CLINICS

46. The authority citation for part 55a continues to read as follows:

Authority: Sec. 427(a), Federal Mine Safety and Health Act of 1977, 92 Stat. 100 (30 U.S.C. 937(a)).

§ 55a.107 [Amended]

47. Amend § 55a.107 by removing “45 CFR part 74—Administration of grants;” and “45 CFR part 75—Informal grant appeals procedures;” and adding in alphanumeric order “45 CFR part 75—Uniform Administrative Requirements, Cost Principles, and Audit Requirements for HHS Awards;”.

§ 55a.201 [Amended]

48. Amend § 55a.201(g) by removing “Attachment P, Audit Requirements, of Office of Management and Budget Circular A-102, Uniform Requirements for Assistance to State and Local Governments, as adopted for the Department of Health and Human Services by 45 CFR part 74” and adding in its place “subpart F of 45 CFR part 75”.

PART 56—GRANTS FOR MIGRANT HEALTH SERVICES

49. The authority citation for part 56 continues to read as follows:

Authority: Secs. 215, 319, Public Health Service Act (42 U.S.C. 216, 247d).

§ 56.108 [Amended]

50. Amend § 56.108 in paragraph (a) by removing “subpart Q of 45 CFR part 74” and adding in its place “45 CFR part 75, subpart E” and in paragraph (b)(7) by removing “45 CFR part 74” and adding in its place “45 CFR part 75”.

§ 56.113 [Amended]

51. In § 56.113(c)(2)(iii), remove “subparts F, M, and O of 45 CFR part 74” and add in its place “45 CFR 75.307, 75.371 through 75.385, and 75.316 through 75.325”.

52. Revise § 56.114 to read as follows:

§ 56.114 Applicability of 45 CFR part 75.

The provisions of 45 CFR part 75, establishing uniform administrative requirements and cost principles, shall apply to all grants under this part.

PART 57—GRANTS FOR CONSTRUCTION OF TEACHING FACILITIES, EDUCATIONAL IMPROVEMENTS, SCHOLARSHIPS AND STUDENT LOANS

53. The authority citation for part 57 continues to read as follows:

Authority: Sec. 215 of the Public Health Service Act, 58 Stat. 690, as amended, 63 Stat. 35 (42 U.S.C. 216); secs. 740-747 of the Public Health Service Act, 77 Stat. 170-173, as amended by 90 Stat. 2266-2268, 91 Stat. 390-391, 95 Stat. 920, 99 Stat. 532-536, and 102 Stat. 3125 (42 U.S.C. 294m-q); renumbered as secs. 721-735, as amended by Pub. L. 102-408, 106 Stat. 2011-2022 (42 U.S.C. 292q-292y).

§ 57.215 [Amended]

54. Amend § 57.215(a)(3) by removing “45 CFR part 74” and adding in its place “45 CFR part 75”.

§ 57.315 [Amended]

55. Amend § 57.315(b)(2) by removing “45 CFR part 74” and adding in its place “45 CFR part 75”.

PART 59—GRANTS FOR FAMILY PLANNING SERVICES

56. The authority citation for part 59 continues to read as follows:

Authority: 42 U.S.C. 300a-4.

§ 59.9 [Amended]

57. Amend § 59.9 by removing “45 CFR part 74 or Part 92, as applicable” and adding in its place “45 CFR part 75, subpart E”.

§ 59.10 [Amended]

58. Amend § 59.10:

a. By removing “45 CFR part 74—Uniform administrative requirements for awards and subawards to institutions of higher education, hospitals, other nonprofit organizations, and commercial organizations; and certain grants and agreements with states, local governments and Indian tribal governments”;

b. By adding in alphanumeric order “45 CFR part 75—Uniform Administrative Requirements, Cost Principles, and Audit Requirements for HHS Awards”; and

c. By removing “45 CFR part 92—Uniform administrative requirements for grants and cooperative agreements to state and local governments”.

§ 59.206 [Amended]

59. Amend § 59.206(c) by removing “subpart Q of 35 CFR part 74” and adding in its place “45 CFR part 75, subpart E”.

§ 59.208 [Amended]

60. Amend § 59.208(a) by removing “subpart Q of 45 CFR part 74” and adding in its place “45 CFR part 75, subpart E”.

§ 59.212 [Amended]

61. Amend § 59.212(d)(2)(iii) by removing “subparts F, M, and O of 45 CFR part 74.” and adding in its place “45 CFR 75.307, 75.371 through 75.385, and 75.316-75.325.”.

62. Revise § 59.215 to read as follows:

§ 59.215 Applicability of 45 CFR part 75.

The provisions of 45 CFR part 75, establishing uniform administrative requirements and cost principles, shall apply to all grants under this part.

PART 59a—NATIONAL LIBRARY OF MEDICINE GRANTS

63. The authority citation for part 59a continues to read as follows:

Authority: 42 U.S.C. 286b-2, 286b-5.

§ 59a.6 [Amended]

64. Amend § 59a.6 by removing “subpart Q of 45 CFR part 74” and adding in its place “45 CFR part 75, subpart E”.

§ 59a.7 [Amended]

65. Amend § 59a.7:

a. By removing “45 CFR part 74—Administration of grants” and “45 CFR part 75—Informal grants appeals procedures”;

b. By adding in alphanumeric order “45 CFR part 75—Uniform Administrative Requirements, Cost Principles, and Audit Requirements for HHS Awards”; and

c. By removing “45 CFR part 92—Uniform administrative requirements for grants and cooperative agreements to state and local governments”.

§ 59a.16 [Amended]

66. Amend § 59a.16(a) by removing “subpart Q of 45 CFR part 74” and adding in its place “45 CFR part 75, subpart E”.

§ 59a.17 [Amended]

67. Amend § 59a.17:

a. By removing “45 CFR part 74—Administration of grants” and “45 CFR part 75—Informal grants appeals procedures.”;

b. By adding in alphanumeric order “45 CFR part 75—Uniform Administrative Requirements, Cost Principles, and Audit Requirements for HHS Awards”; and

c. By removing “45 CFR part 92—Uniform administrative requirements for grants and cooperative agreements to state and local governments”.

PART 62—NATIONAL HEALTH SERVICE CORPS SCHOLARSHIP AND LOAN REPAYMENT PROGRAMS

68. The authority citation for part 62 continues to read as follows:

Authority: Sec. 215 of the Public Health Service Act, 58 Stat. 690, as amended, 63 Stat. 35 (42 U.S.C. 216); sec. 751 of the Public Health Service Act, 90 Stat. 2281 (42 U.S.C. 294t), unless otherwise noted.

§ 62.58 [Amended]

69. Amend § 62.58:

a. By removing “45 CFR part 74—Administration of grants”, “45 CFR part 75—Informal grant appeals procedures” and “45 CFR part 92—Administrative Requirements for grants and cooperative agreements to State and local governments (effective October 1, 1988)”;

b. By adding in alphanumeric order “45 CFR part 75—Uniform Administrative Requirements, Cost Principles, and Audit Requirements for HHS Awards”; and

c. By arranging existing entries in alphanumeric order.

PART 63a—NATIONAL INSTITUTES OF HEALTH TRAINING GRANTS

70. The authority citation for part 63a continues to read as follows:

Authority: 42 U.S.C. 216, 2421(b)(3), 284(b)(1)(C), 285g-10, 287c(b), 300cc-15(a)(1), 300cc-41(a)(3)(C), 7403(h)(2).

§ 63a.10 [Amended]

71. Amend § 63a.10(a) by removing “45 CFR 74.27” and adding in its place “45 CFR part 75, subpart E”.

§ 63a.11 [Amended]

72. Amend § 63a.11:

a. By removing “45 CFR part 74—Administration of grants” and “45 CFR part 75—Informal grant appeals procedures”;

b. By adding in alphanumeric order “45 CFR part 75—Uniform administrative requirements, cost principles, and audit requirements for HHS awards”; and

c. By removing “45 CFR part 92—Administrative Requirements for grants and cooperative agreements to State and local governments”.

PART 64—NATIONAL LIBRARY OF MEDICINE TRAINING GRANTS

73. The authority citation for part 64 continues to read as follows:

Authority: 42 U.S.C. 216, 286b-3.

§ 64.8 [Amended]

74. Amend § 64.8 by removing “subpart Q of 45 CFR part 74” and adding in its place “45 CFR part 75, subpart E”.

§ 64.9 [Amended]

75. Amend § 64.9:

a. By removing “45 CFR part 74—Administration of grants.” and “45 CFR part 75—Informal grant appeals procedures.”;

b. By adding in alphanumeric order “45 CFR part 75—Uniform Administrative Requirements, Cost Principles, and Audit Requirements for HHS Awards.”; and

c. By removing “45 CFR part 92—Administrative Requirements for grants and cooperative agreements to State and local governments.”.

PART 65—NATIONAL INSTITUTE OF ENVIRONMENTAL HEALTH SCIENCES HAZARDOUS WASTE WORKER TRAINING

76. The authority citation for part 65 continues to read as follows:

Authority: 42 U.S.C. 9660a; 49 U.S.C. App. 1816.

§ 65.8 [Amended]

77. Amend § 65.8:

a. By removing “45 CFR part 74—Administration of grants” and “45 CFR part 75—Informal grant appeals procedures”;

b. By adding in alphanumeric order “45 CFR part 75—Uniform Administrative Requirements, Cost Principles, and Audit Requirements for HHS Awards”; and

c. By removing “45 CFR part 92—Administrative Requirements for Grants and Cooperative Agreements to State and local Governments”.

PART 65a—NATIONAL INSTITUTE OF ENVIRONMENTAL HEALTH SCIENCES HAZARDOUS SUBSTANCES BASIC RESEARCH AND TRAINING GRANTS

78. The authority citation for part 65a continues to read as follows:

Authority: 42 U.S.C. 216, 9660(a).

§ 65a.9 [Amended]

79. Amend § 65a.9(a) by removing “45 CFR 74.25” and adding in its place “45 CFR 75.308”.

§ 65a.10 [Amended]

80. Amend § 65a.10 by removing “45 CFR 74.27” and adding in its place “45 CFR part 75, subpart E”.

§ 65a.11 [Amended]

81. Amend § 65a.11:

a. By removing “45 CFR part 74—Uniform administrative requirements for awards and subawards to institutions of higher education, hospitals, other nonprofit organizations, and commercial organizations; and certain grants and agreements with states, local governments and Indian tribal governments” and “45 CFR part 75—Informal grant appeals procedures”;

b. By adding in alphanumeric order “45 CFR part 75—Uniform Administrative Requirements, Cost Principles, and Audit Requirements for HHS Awards”; and

c. By removing “45 CFR part 92—Uniform administrative requirements for grants and cooperative agreements to state and local governments”.

PART 66—NATIONAL RESEARCH SERVICE AWARDS

82. The authority citation for part 66 continues to read as follows:

Authority: 42 U.S.C. 216, 288.

§ 66.207 [Amended]

83. Amend § 66.207:

a. By removing “45 CFR part 74—Uniform administrative requirements for awards and subawards to institutions of higher education, hospitals, other nonprofit organizations, and commercial organizations; and certain grants and agreements with states, local governments and Indian tribal governments” and “45 CFR part 75—Informal grant appeals procedures”; and

b. By adding in alphanumeric order “45 CFR part 75—Uniform Administrative Requirements, Cost Principles, and Audit Requirements for HHS Awards”.

PART 67—AGENCY FOR HEALTH CARE POLICY AND RESEARCH GRANTS AND CONTRACTS

84. The authority citation for part 67 continues to read as follows:

Authority: Pub. L. 103-43, 107 Stat. 214-215, Pub. L. 102-410, 106 Stat. 2094-2101 and sec. 6103, Pub. L. 101-239, 103 Stat. 2189-2208, Title IX of the Public Health Service Act (42 U.S.C. 299-299c-6); and sec. 1142, Social Security Act (42 U.S.C. 1320b-12).

§ 67.11 [Amended]

85. Amend § 67.11 in the definition of “Grant,” by removing “45 CFR parts 74 and 92” and adding in its place “45 CFR part 75”.

§ 67.18 [Amended]

86. Amend § 67.18 by removing “45 CFR part 74, or part 92 for State and local government grantees” and adding in its place “45 CFR part 75”.

§ 67.19 [Amended]

87. Amend § 67.19:

a. By removing “45 CFR part 74—Administration of grants”;

b. By adding in alphanumeric order “45 CFR part 75—Uniform Administrative Requirements, Cost Principles, and Audit Requirements for HHS Awards”; and

c. By removing “45 CFR part 92—Uniform administrative requirements for grants and cooperative agreements with State and local governments”.

PART 124—MEDICAL FACILITY CONSTRUCTION AND MODERNIZATION

88. The authority citation for part 124 continues to read as follows:

Authority: Secs. 215, 1602, 1625, Public Health Service Act (42 U.S.C. 216, 300o-1, 300r), unless otherwise noted.

§ 124.6 [Amended]

89. Amend § 124.6 by removing “subpart K of 45 CFR part 74.” and adding in its place “45 CFR 75.305”.

§ 124.7 [Amended]

90. Amend § 124.7 by removing “subpart Q of 45 CFR part 74.” and adding in its place “45 CFR part 75, subpart E.”.

91. Revise § 124.11 to read as follows:

§ 124.11 Applicability of 45 CFR part 75.

The provisions of 45 CFR part 75, establishing uniform administrative requirements and cost principles, shall apply to all grants under this part.”.

PART 136—INDIAN HEALTH

92. The authority citation for part 136 continues to read as follows:

Authority: 25 U.S.C. 13; sec. 3, 68 Stat. 674 (42 U.S.C., 2001, 2003); Sec. 1, 42 Stat. 208 (25 U.S.C. 13); 42 U.S.C. 2001, unless otherwise noted.

§ 136.56 [Amended]

93. Amend § 136.56 by removing “45 CFR part 74, subpart C” and adding in its place “45 CFR 75.361”.

§ 136.104 [Amended]

94. Amend § 136.104(a) by removing “45 CFR part 74, subpart N” and adding in its place “45 CFR 75.206”.

§ 136.105 [Amended]

95. Amend § 136.105(e) Note by removing “45 CFR 74.15” and adding in its place “45 CFR 75.304”.

§ 136.107 [Amended]

96. Amend § 136.107 in paragraph (a) by removing “subpart Q of 45 CFR part 74” and adding in its place “45 CFR part 75, subpart E” and in paragraph (b) Note by removing “45 CFR 74.53” and adding in its place “45 CFR 75.306”.

§ 136.110 [Amended]

97. Amend § 136.110(b)(3) by removing “subpart P of 45 CFR part 74” and adding in its place “45 CFR 75.326 through 75.340”.

§ 136.111 [Amended]

98. Amend § 136.111 in the Note by removing “45 CFR 74.47(a)” and adding in its place “45 CFR 75.305(b)(9)”.

§ 136.114 [Amended]

99. Amend § 136.114 by removing “45 CFR part 74—Administration of grants” and “45 CFR part 75—Informal grant appeals procedures” and adding in alphanumeric order “45 CFR 75—Uniform Administrative Requirements, Cost Principles, and Audit Requirements for HHS Awards”.

§ 136.115 [Amended]

100. Amend § 136.115 in the Note by removing “45 CFR part 74, subpart M” and adding in its place “45 CFR 75.371 through 75.385”.

§ 136.116 [Amended]

101. Amend § 136.116 by removing “subpart J of 45 CFR part 74” and adding in its place “45 CFR 75.341 through 75.360” and in the Note by removing “45 CFR part 74” and adding in its place “45 CFR part 75”.

§ 136.120 [Amended]

102. Amend § 136.120 in the Note by removing “45 CFR part 74” and adding in its place “45 CFR part 75”.

§ 136.302 [Amended]

103. Amend § 136.302(r) by removing “45 CFR 74.3” and adding in its place “45 CFR 75.2”.

§ 136.312 [Amended]

104. Amend § 136.312(a) by removing “45 CFR part 74, subpart N” and adding in its place “45 CFR 75.206”.

§ 136.314 [Amended]

105. Amend § 136.314 by removing “subpart Q of 45 CFR part 74” and adding in its place “45 CFR part 75, subpart E”.

§ 136.316 [Amended]

106. Amend § 136.316 by removing “45 CFR part 74, Administration of grants” and “45 CFR part 75, Informal grant appeals procedures” and adding in alphanumeric order “45 CFR part 75—Uniform Administrative Requirements, Cost Principles, and Audit Requirements for HHS Awards”.

PART 403—SPECIAL PROGRAMS AND PROJECTS

107. The authority citation for part 403 continues to read as follows:

Authority: 42 U.S.C. 1395b-3 and Secs. 1102 and 1871 of the Social Security Act (42 U.S.C. 1302 and 1395hh).

§ 403.512 [Amended]

108. Amend § 403.512(a):

a. By removing from the first sentence “45 CFR part 92 (“Uniform Administrative Requirements for Grants and Cooperative Agreements to State and Local Governments”), 45 CFR 74.4” and adding in its place “45 CFR part 75”; and

b. By removing from the second sentence “45 CFR 74.4 or in part 92” and adding in its place “45 CFR part 75”.

PART 417—HEALTH MAINTENANCE ORGANIZATIONS, COMPETITIVE MEDICAL PLANS, AND HEALTH CARE PREPAYMENT PLANS

109. The authority citation for part 417 continues to read as follows:

Authority: Secs. 1102 and 1871 of the Social Security Act (42 U.S.C. 1302 and 1395hh), secs. 1301, 1306, and 1310 of the Public Health Service Act (42 U.S.C. 300e, 300e-5, and 300e-9), and 31 U.S.C. 9701.

§ 417.911 [Amended]

110. Amend § 417.911 Small Capital Expenditure (1) by removing “45 CFR 74.132” and adding in its place “45 CFR 75.2”.

PART 430—GRANTS TO STATES FOR MEDICAL ASSISTANCE PROGRAMS

111. The authority citation for part 430 continues to read as follows:

Authority: Sec. 1102 of the Social Security Act (42 U.S.C. 1302).

§ 430.2 [Amended]

112. Amend § 430.2(b) by removing “Part 74—Administration of Grants.” and adding in alphanumeric order “Part 75—Uniform Administrative Requirements, Cost Principles, and Audit Requirements for HHS Awards.”.

113. Revise § 430.30(e) to read as follows:

§ 430.30 [Amended]

* * * * *

(e) General administrative requirements. With the following exceptions, the provisions of 45 CFR 75, which establish uniform administrative requirements and cost principles, apply to all grants made to States under this subpart:

(1) Cost sharing or matching, 45 CFR 75.306; and

(2) Financial reporting, 45 CFR 75.341.

PART 433—STATE FISCAL ADMINISTRATION

114. The authority citation for part 433 continues to read as follows:

Authority: Sec. 1102 of the Social Security Act, (42 U.S.C. 1302).

§ 433.112 [Amended]

115. Amend § 433.112(b)(7) by removing “45 CFR 74.27(a)” and adding in its place 45 CFR part 75, subpart E”.

§ 433.322 [Amended]

116. Amend § 433.322 by removing “45 CFR 92.42” and adding in its place 45 CFR 75.361 through 75.370”.

PART 434—CONTRACTS

117. The authority citation for part 434 continues to read as follows:

Authority: Sec. 1102 of the Social Security Act (42 U.S.C. 1302).

§ 434.6 [Amended]

118. Amend § 434.6(a)(1) by removing “45 CFR part 74” and adding in its place “45 CFR part 75”.

§ 434.70 [Amended]

119. Amend § 434.70(a)(2) by removing “45 CFR part 74” and adding in its place “45 CFR part 75”.

PART 435—ELIGIBILITY IN THE STATES, DISTRICT OF COLUMBIA, THE NORTHERN MARIANA ISLANDS, AND AMERICAN SAMOA

120. The authority citation for part 434 continues to read as follows:

Authority: Sec. 1102 of the Social Security Act (42 U.S.C. 1302).

§ 435.407 [Amended]

121. Amend § 435.407(j) by removing “45 CFR 74.53” and adding in its place “45 CFR 75.361”.

PART 436—ELIGIBILITY IN GUAM, PUERTO RICO, AND THE VIRGIN ISLANDS

122. The authority citation for part 436 continues to read as follows:

Authority: Sec. 1102 of the Social Security Act (42 U.S.C. 1302).

§ 436.407 [Amended]

123. Amend § 436.407(j) by removing “45 CFR 74.53” and adding in its place “45 CFR 75.361”.

PART 438—MANAGED CARE

124. The authority citation for part 438 continues to read as follows:

Authority: Sec. 1102 of the Social Security Act (42 U.S.C. 1302).

§ 438.356 [Amended]

125. Amend § 438.356(e) by removing “45 CFR part 74” and adding in its place “45 CFR part 75”.

PART 440—SERVICES: GENERAL PROVISIONS

126. The authority citation for part 440 continues to read as follows:

Authority: Sec. 1102 of the Social Security Act (42 U.S.C. 1302).

§ 440.170 [Amended]

127. Amend § 440.170(a)(4)(i)(A) by removing “45 CFR 92.36(b) through (i)” and adding in its place “45 CFR 75.326 through 75.340”.

PART 441—SERVICES: REQUIREMENTS AND LIMITS APPLICABLE TO SPECIFIC SERVICES

128. The authority citation for part 441 continues to read as follows:

Authority: Secs. 1102, 1902, and 1928 of the Social Security Act (42 U.S.C. 1302).

§ 441.208 [Amended]

129. Amend § 441.208 by removing “45 CFR 74.20” and adding in its place “45 CFR 75.361”.

§ 441.353 [Amended]

130. Amend § 441.353(c)(3) by removing “45 CFR part 74” and adding in its place “45 CFR part 75”.

§ 441.484 [Amended]

131. Amend § 441.484(a)(2) by removing “45 CFR 74.40 through 74.48” and adding in its place “45 CFR 75.326 through 75.340”.

PART 456—UTILIZATION CONTROL

132. The authority citation for part 456 continues to read as follows:

Authority: Sec. 1102 of the Social Security Act (42 U.S.C. 1302), unless otherwise noted.

§ 456.722 [Amended]

133. Amend § 456.722(c)(1) by removing “45 CFR part 74, subpart P, and appendix G-O of OMB circular A-102” and adding in its place “45 CFR 75.326 through 75.340”.

PART 457—ALLOTMENTS AND GRANTS TO STATES

134. The authority citation for part 457 continues to read as follows:

Authority: Section 1102 of the Social Security Act (42 U.S.C. 1302).

§ 457.230 [Amended]

135. Amend § 457.230 by removing “45 CFR part 74” and adding in its place “45 CFR part 75”.

§ 457.628 [Amended]

136. Amend § 457.628(b) by removing “Part 74—Administration of Grants (except as specifically excepted).” and adding in alphanumeric order “45 CFR part 75—Uniform Administrative Requirements, Cost Principles, and Audit Requirements for HHS Awards (except as specifically excepted).”.

137. Amend § 457.630 in paragraph (f) introductory text by removing “45 CFR part 74” and adding in its place “45 CFR part 75” and revising paragraphs (f)(1) and (2).

The revisions read as follows:

§ 457.630 Grants procedures.

* * * * *

(f) * * *

(1) Cost sharing or matching, 45 CFR 75.306; and

(2) Financial reporting, 45 CFR 75.341.

§ 457.940 [Amended]

138. Amend § 457.940 in paragraph (b)(1) by removing “45 CFR 74.43 or 45 CFR 92.36, as applicable” and adding in its place “45 CFR 75.326 through 75.340” and in paragraph (d) by removing “45 CFR part 74 or 45 CFR part 92, as applicable” and adding in its place “45 CFR part 75”.

PART 1001—PROGRAM INTEGRITY—MEDICARE AND STATE HEALTH CARE PROGRAMS

139. The authority citation for part 1001 continues to read as follows:

Authority: 42 U.S.C. 1302, 1320a-7, 1320a-7b, 1395u(j), 1395u(k), 1395w-104(e)(6), 1395y(d), 1395y(e), 1395cc(b)(2)(D), (E) and (F), and 1395hh; and sec. 2455, Public Law 103-355, 108 Stat. 3327 (31 U.S.C. 6101 note).

§ 1001.952 [Amended]

140. Amend § 1001.952(w)(7) by removing “45 CFR 74.40 through 74.48” and adding in its place “45 CFR 75.326 through 75.340” and designating the undesignated paragraph following paragraph (w)(9) as Note to paragraph (w).

Title 45—Public Welfare

PART 16—PROCEDURES OF THE DEPARTMENTAL GRANT APPEALS BOARD

141. The authority citation for part 16 continues to read as follows:

Authority: 5 U.S.C. 301 and secs. 1, 5, 6, and 7 of Reorganization Plan No. 1 of 1953, 18 FR 2053, 67 Stat. 631 and authorities cited in the Appendix.

§ 16.1 [Amended]

142. Amend § 16.1 by removing “part 74 of this title” and adding in its place “part 75 of this title”.

§ 16.2 [Amended]

143. Amend § 16.2(b) by removing “part 74 of this title” and adding in its place “part 75 of this title”.

§ 16.3 [Amended]

144. Amend § 16.3(b) by removing “45 CFR 74.304” and adding in its place “45 CFR 75.374”.

§ 16.7 [Amended]

145. Amend § 16.7(a) by removing “45 CFR 74.304” and adding in its place “45 CFR 75.374”.

146. Amend § 16.20 by revising paragraph (a) to read as follows:

§ 16.20 How to submit material to the Board.

(a) Submissions should be addressed to the Board's current mailing address: Department of Health and Human Services, Departmental Appeals Board, Appellate Division—MS 6127, 330 Independence Ave. SW., Cohen Building—Rm. G-644, Washington, DC 20201; however, submissions to the Board in certain types of cases may be made by electronic filing using DAB E-File at https://dab.efile.hhs.gov. Changes to the mailing address will be made available on the Board's Web site at www.hhs.gov/dab/divisions/appellate.

* * * * *

§ 16.22 [Amended]

147. Amend § 16.22(b)(1) by removing “see § 74.114 of this title” and adding in its place “see § 75.371 of this title”.

PART 63—GRANT PROGRAMS ADMINISTERED BY THE OFFICE OF THE ASSISTANT SECRETARY FOR PLANNING AND EVALUATION

148. The authority citation for part 63 continues to read as follows:

Authority: Sec. 602, Community Services Act (42 U.S.C. 2942); sec. 1110, Social Security Act (42 U.S.C. 1310).

§ 63.8 [Amended]

149. Amend § 63.8(c)(1) by removing “Part 74 of this title, establishing uniform administrative requirements and cost principles for grants” and adding in its place “Part 75 of this title, establishing uniform administrative requirements, cost principles and audit requirements for grants”.

§ 63.34 [Amended]

150. Amend § 63.34 by removing “§ 74.114” and adding in its place “§ 75.372”.

PART 75—UNIFORM ADMINISTRATIVE REQUIREMENTS, COST PRINCIPLES, AND AUDIT REQUIREMENTS FOR HHS AWARDS

151. The authority citation for part 75 continues to read as follows:

Authority: 5 U.S.C. 301.

§ 75.1 Acronyms [Amended]

152. Amend § 75.1 by removing “COG Councils of Governments” and adding in its place “COG Councils Of Governments”; adding in alphabetical order “FAPIIS Federal Awardee Performance and Integrity Information System”; and removing “SAM System for Award Management” and adding in its place “SAM System for Award Management (accessible at https://www.sam.gov)”

153. Amend § 75.2:

a. By revising paragraph (2) in the definition of “Cognizant agency for indirect costs;”

b. In the definition of “Federal Audit Clearinghouse FAC” by removing “FAC” and adding “(FAC)” in its place;

c. In the definition of “Federal financial assistance”:

i. By revising paragraphs (1) introductory text and (2) introductory text; and

ii. By redesignating paragraph (c) as paragraph (3).

d. By revising the terms “GAAP” and “GAGAS” to read “Generally Accepted Accounting Principles (GAAP)”and “Generally Accepted Government Auditing Standards (GAGAS),” respectively, and redesignating them in proper alphabetical order;

e. By revising the definitions of “Improper payment,” “Obligations,” and “Simplified acquisition threshold;” and

f. Adding a definition of “Working capital advance.”

The revisions and additions read as follows:

§ 75.2 Definitions.

* * * * *

Cognizant agency for indirect costs * * *

(2) For nonprofit organizations, Appendix IV to Part 75 C.2.a.

* * * * *

Federal financial assistance means

(1) Assistance that non-Federal entities receive or administer in the form of:

* * * * *

(2) For § 75.202 and Subpart F of this part, Federal financial assistance also includes assistance that non-Federal entities receive or administer in the form of:

* * * * *

Improper payment:

(1) Means any payment that should not have been made or that was made in an incorrect amount (including overpayments and underpayments) under statutory, contractual, administrative, or other legally applicable requirements; and

(2) Includes any payment to an ineligible party, any payment for an ineligible good or service, any duplicate payment, any payment for a good or service not received (except for such payments where authorized by law), any payment that does not account for credit for applicable discounts, and any payment where insufficient or lack of documentation prevents a reviewer from discerning whether a payment was proper.

* * * * *

Obligations, when used in connection with a non-Federal entity's utilization of funds under a Federal award, obligations means orders placed for property and services, contracts and subawards made, and similar transactions during a given period that require payment by the non-Federal entity during the same or a future period.

* * * * *

Simplified acquisition threshold means the dollar amount below which a non-Federal entity may purchase property or services using small purchase methods. Non-Federal entities adopt small purchase procedures in order to expedite the purchase of items costing less than the simplified acquisition threshold. The simplified acquisition threshold is set by the Federal Acquisition Regulation at 48 CFR subpart 2.1 and in accordance with 41 U.S.C. 1908. As of the publication of this part, the simplified acquisition threshold is $150,000, but this threshold is periodically adjusted for inflation. See also Micro-purchase.

* * * * *

Working capital advance means a procedure whereby funds are advanced to the recipient to cover its estimated disbursement needs for a given initial period.

154. In § 75.101:

a. Revise the table in paragraph (b)(1);

b. Revise paragraph (b)(2);

c. In paragraph (c), remove the reference “§ 75.215: and add “§ 75.217” in its place; and

d. Revise paragraphs (d)(1) and (e)(1) introductory text.

The revisions read as follows:

§ 75.101 Applicability

* * * * *

(b) * * *

(1) * * *

The following portions of the part: | Are applicable to the following types of Federal awards and fixed-price contracts and subcontracts (except as noted in paragraphs (d) and (e) below): | Are NOT applicable to the following types of Federal awards and fixed-price contracts and subcontracts:
This table must be read along with the other provisions in this section
Subpart A—Acronyms and Definitions | —All
Subpart B—General Provisions, except for §§ 75.111, 75.112. and 75.113 | —All
Sections 75.111, 75.112, and 75.113 | —Grant agreements and cooperative agreements | —Agreements for loans, loan guarantees, interest subsidies and insurance. —Procurement contracts awarded by Federal Agencies under the Federal Acquisition Regulations and subcontracts under these contracts.
Subparts C-D, except for §§ 75.202, 75.303, 75.351-.353 | —Grant agreements and cooperative agreements | —Agreements for loans, loan guarantees, interest subsidies and insurance. —Procurement contracts awarded under the Federal Acquisition Regulations and cost-reimbursement and subcontracts under these contracts.
§ 75.202 | —Grant Agreements and cooperative agreements —Agreements for loans, loan guarantees, interest subsidies and insurance | —Procurement contracts awarded under the Federal Acquisition Regulations and cost-reimbursement and subcontracts under these contracts.
§§ 75.303, 75.351-.353 | —All
Subpart E—Cost Principles | —Grant agreements and cooperative agreements, except those providing food commodities —All procurement contracts under the Federal Acquisition Regulations except those that are not negotiated | —Grant agreements and cooperative agreements providing food commodities. —Fixed amount awards. —Agreements for loans, loan guarantees, interest subsidies and insurance. —Federal awards to hospitals (See Appendix IX).
Subpart F—Audit Requirements | —Grant agreements and cooperative agreements —Contracts and subcontracts, except for fixed price contract and subcontracts, awarded under the Federal Acquisition Regulation —Agreements for loans, loan guarantees, interest subsidies and insurance and other forms of Federal Financial Assistance as defined by the Single Audit Act Amendment of 1996 | —Fixed-price contracts and subcontracts awarded under the Federal Acquisition Regulation.

(2) Federal award of cost-reimbursement contract under the FAR to a non-Federal entity. When a non-Federal entity is awarded a cost-reimbursement contract, only subpart D of this part §§ 75.351 through 75.353 (in addition to any FAR related requirements for subaward monitoring), Subpart E of this part and Subpart F of this part are incorporated by reference into the contract. However, when the Cost Accounting Standards (CAS) are applicable to the contract, they take precedence over the requirements of this part except for subpart F of this part when they are in conflict. In addition, costs that are made unallowable under 10 U.S.C. 2324(e) and 41 U.S.C. 4304(a) as described in the FAR subpart 31.2 and subpart 31.603 are always unallowable. For requirements other than those covered in subpart D of this part, §§ 75.351 through 75.353, subpart E of this part and subpart F of this part, the terms of the contract and the FAR apply.

* * * * *

(d) * * *

(1) The block grant awards authorized by the Omnibus Budget Reconciliation Act of 1981 (including Community Services), except to the extent that Subpart E of this Part apply to subrecipients of Community Services Block Grant funds pursuant to 42 U.S.C. 9916(a)(1)(B);

* * * * *

(e) * * *

(1) Entitlement Federal awards to carry out the following programs of the Social Security Act:

* * * * *

§ 75.102 [Amended]

155. Amend § 75.102(b) by adding a comma after “indirect costs” and removing the second sentence.

§ 75.103 [Amended]

156. In § 75.103, amend paragraphs (a) and (b) by adding “Prescribing the Duties of the Office of Management and Budget and the Domestic Policy Council in the Executive Office of the President” after “Executive Order 11541” in each paragraph.

§ 75.104 [Amended]

157. Amend § 75.104(a)(7) by adding closing quotation marks after the word Organizations.

158. In § 75.110, revise paragraph (a) to read as follows:

§ 75.110 Effective/Applicability date

(a) The standards set forth in this part which affect administration of Federal awards issued by HHS agencies become effective December 26, 2014 unless different provisions are required by statute or approved by OMB. For the procurement standards in 45 CFR 75.326 through 75.355, non-Federal entities may continue to comply with the procurement standards in previous OMB guidance (superseded by this part as described in 45 CFR 75.104) for two additional fiscal years after this part goes into effect. If a non-Federal entity chooses to use the previous procurement standards for an additional two fiscal years before adopting the procurement standards in this part, the non-Federal entity must document this decision in their internal procurement policies.

* * * * *

159. Amend § 75.113 by adding a new second sentence to read as follows:

§ 75.113 Mandatory disclosures.

* * * Non-Federal entities that have received a Federal award including the term and condition outlined in Appendix XII are required to report certain civil, criminal, or administrative proceedings to SAM. * * *

§ 75.203 [Amended]

160. Amend § 75.203(c)(5) by removing the last sentence.

161. Amend § 75.205 by revising paragraph (a) to read as follows:

§ 75.205 [Amended]

(a) Review of OMB-designated repositories of governmentwide data. (1) Prior to making a Federal award, the HHS awarding agency is required by 31 U.S.C. 3321 and 41 U.S.C. 2313 note to review information available through any OMB-designated repositories of governmentwide eligibility qualification or financial integrity information as appropriate. See also suspension and debarment requirements at 2 CFR parts 180 and 376.

(2) In accordance 41 U.S.C. 2313, the HHS awarding agency is required to review the publicly available information in the OMB-designated integrity and performance system accessible through SAM (currently the Federal Awardee Performance and Integrity Information System (FAPIIS)) prior to making a Federal award where the Federal share is expected to exceed the simplified acquisition threshold, defined in 41 U.S.C. 134, over the period of performance. At a minimum, the information in the system for a prior Federal award recipient must demonstrate a satisfactory record of executing programs or activities under Federal grants, cooperative agreements, or procurement awards; and integrity and business ethics. The HHS awarding agency may make a Federal award to a recipient who does not fully meet these standards, if it is determined that the information is not relevant to the current Federal award under consideration or there are specific conditions that can appropriately mitigate the effects of the non-Federal entity's risk in accordance with § 75.207.

* * * * *

§ 75.206 [Amended]

162. Amend § 75.206(a) by adding “, Controlling Paperwork Burdens on the Public” after “5 CFR part 1320”.

§ 75.207 [Amended]

163. Amend § 75.207(a)(4) by removing “the” and adding in its place “an”.

164. Amend § 75.210:

a. In paragraph (a)(1) by removing “their” and adding in its place “its”;

b. By adding paragraph (b)(1)(iii); and

c. By adding “Preparation, Submission and Execution of the Budget” after “A-11” in the last sentence of paragraph (d).

The addition reads as follows:

§ 75.210 Information contained in a Federal award.

* * * * *

(b) * * *

(1) * * *

(iii) Recipient integrity and performance matters. If the total Federal share of the Federal award may include more than $500,000 over the period of performance, the HHS awarding agency must include the term and condition available in Appendix XII. See also § 75.113.

* * * * *

165. In § 75.211, revise paragraph (b) and add paragraph (c) to read as follows:

§ 75.211 Public access to Federal award information.

* * * * *

(b) All information posted in the designated integrity and performance system accessible through SAM (currently FAPIIS) on or after April 15, 2011 will be publicly available after a waiting period of 14 calendar days, except for:

(1) Past performance reviews required by Federal Government contractors in accordance with the Federal Acquisition Regulation (FAR) 42.15;

(2) Information that was entered prior to April 15, 2011; or

(3) Information that is withdrawn during the 14-calendar day waiting period by the Federal Government official.

(c) Nothing in this section may be construed as requiring the publication of information otherwise exempt under the Freedom of Information Act (5 U.S.C. 552), or controlled unclassified information pursuant to Executive Order 13556.

§§ 75.212 through 75.217 [Redesignated as §§ 75.213 through 75.218]

166. Redesignate §§ 75.212 through 75.217 as §§ 75.213 through 75.218, respectively.

167. Add a new § 75.212 to read as follows:

§ 75.212 Reporting a determination that a recipient is not qualified for a Federal award.

(a) If an HHS awarding agency does not make a Federal award to a non-Federal entity because the official determines that the non-Federal entity does not meet either or both of the minimum qualification standards as described in § 75.205(a)(2), the HHS awarding agency must report that determination to the designated integrity and performance system accessible through SAM (currently FAPIIS), only if all of the following apply:

(1) The only basis for the determination described in paragraph (a) of this section is the non-Federal entity's prior record of executing programs or activities under Federal awards or its record of integrity and business ethics, as described in § 75.205(a)(2), (i.e., the entity was determined to be qualified based on all factors other than those two standards), and

(2) The total Federal share of the Federal award that otherwise would be made to the non-Federal entity is expected to exceed the simplified acquisition threshold over the period of performance.

(b) The HHS awarding agency is not required to report a determination that a non-Federal entity is not qualified for a Federal award if it makes the Federal award to the non-Federal entity and includes specific award terms and conditions, as described in § 75.207.

(c) If an HHS awarding agency reports a determination that a non-Federal entity is not qualified for a Federal award, as described in paragraph (a) of this section, the HHS awarding agency also must notify the non-Federal entity that—

(1) The determination was made and reported to the designated integrity and performance system accessible through SAM, and include with the notification an explanation of the basis for the determination;

(2) The information will be kept in the system for a period of five years from the date of the determination, as required by section 872 of Public Law 110-417, as amended (41 U.S.C. 2313), then archived;

(3) Each HHS awarding agency that considers making a Federal award to the non-Federal entity during that five year period must consider that information in judging whether the non-Federal entity is qualified to receive the Federal award when the total Federal share of the Federal award is expected to include an amount of Federal funding in excess of the simplified acquisition threshold over the period of performance;

(4) The non-Federal entity may go to the awardee integrity and performance portal accessible through SAM (currently the Contractor Performance Assessment Reporting System (CPARS)) and comment on any information the system contains about the non-Federal entity itself; and

(5) HHS awarding agencies will consider that non-Federal entity's comments in determining whether the non-Federal entity is qualified for the future Federal award.

(d) If an HHS awarding agency enters information into the designated integrity and performance system accessible through SAM about a determination that a non-Federal entity is not qualified for a Federal award and subsequently:

(1) Learns that any of that information is erroneous, the HHS awarding agency must correct the information in the system within three business days;

(2) Obtains an update to that information that could be helpful to other Federal awarding agencies, the HHS awarding agency is strongly encouraged to amend the information in the system to incorporate the update in a timely way.

(e) HHS awarding agencies shall not post any information that will be made publicly available in the non-public segment of the designated integrity and performance system that is covered by a disclosure exemption under the Freedom of Information Act. If the recipient asserts within seven calendar days to the HHS awarding agency that posted the information that some or all of the information made publicly available is covered by a disclosure exemption under the Freedom of Information Act, the HHS awarding agency that posted the information must remove the posting within seven calendar days of receiving the assertion. Prior to reposting the releasable information, the HHS awarding agency must resolve the issue in accordance with the agency's Freedom of Information Act procedures.

§ 75.213 [Amended]

168. In newly redesignated § 75.213, remove “and contractors” after “entities” in the first sentence.

169. In § 75.305, revise the last sentence in paragraph (b) introductory text and revise paragraphs (b)(6)(ii) and (b)(9) introductory text to read as follows:

§ 75.305 Payment.

(b) * * * Except as noted elsewhere in this part, HHS awarding agencies must require recipients to use only OMB-approved standard governmentwide information collection requests to request payment.

* * * * *

(6) * * *

(ii) The non-Federal entity is delinquent in a debt to the United States as defined in OMB Guidance A-129 “Policies for Federal Credit Programs and Non-Tax Receivables.”

* * * * *

(9) Interest earned amounts up to $500 per year may be retained by the non-Federal entity for administrative expense. Any additional interest earned on Federal advance payments deposited in interest-bearing accounts must be remitted annually to the Department of Health and Human Services Payment Management System (PMS) through an electronic medium using either Automated Clearing House (ACH) network or a Fedwire Funds Service payment. Remittances must include pertinent information of the payee and nature of the payment in the memo area (often referred to as “addenda records” by Financial Institutions) as that will assist in the timely posting of interest earned on federal funds. Pertinent details include the Payee Account Number (PAN) if the payment originated from PMS, or Agency information, if the payment originated from ASAP, NSF or another federal agency payment system. The remittance must be submitted as follows:

* * * * *

§ 75.306 [Amended]

170. Amend § 75.306(c) by adding “only with prior approval of the HHS awarding agency” at the end of the first sentence.

§ 75.307 [Amended]

171. Amend § 75.307(e) by removing “75.215” and adding in its place “75.216”.

172. In § 75.308, revise paragraph (c) to read as follows:

§ 75.308 Revision of budget and program plans.

* * * * *

(c)(1) For non-construction Federal awards, recipients must request prior approvals from HHS awarding agencies for one or more of the following program or budget-related reasons:

(i) Change in the scope or the objective of the project or program (even if there is no associated budget revision requiring prior written approval).

(ii) Change in a key person specified in the application or the Federal award.

(iii) The disengagement from the project for more than three months, or a 25 percent reduction in time devoted to the project, by the approved project director or principal investigator.

(iv) The inclusion, unless waived by the HHS awarding agency, of costs that require prior approval in accordance with subpart E of this part, or Appendix IX of this part, or 48 CFR part 31, as applicable.

(v) The transfer of funds budgeted for participant support costs as defined in § 75.2 to other categories of expense.

(vi) Unless described in the application and funded in the approved Federal awards, the subawarding, transferring or contracting out of any work under a Federal award, including fixed amount subawards as described in § 75.353. This provision does not apply to the acquisition of supplies, material, equipment or general support services.

(vii) Changes in the approved cost-sharing or matching provided by the non-Federal entity.

(viii) The need arises for additional Federal funds to complete the project.

(ix) The inclusion of research patient care costs in research awards made for the performance of research work.

(x) The provision of subawards by a pass-through entity on fixed amounts up to the Simplified Acquisition Threshold, provided that the subawards meet the requirements for fixed amount awards in § 75.201. See § 75.353.

(xi) The recipient wishes to dispose of, replace, or encumber title to real property, equipment, or intangible property that are acquired or improved with a Federal award. See §§ 75.318, 75.320, 75.322, and 75.323.

(2) No other prior approval requirements for specific items may be imposed unless an exception has been approved by OMB. See also §§ 75.102 and 75.407.

* * * * *

§ 75.322 [Amended]

173. Amend § 75.322(d)(2) by adding “for Federal purposes” at the end.

§ 75.327 [Amended]

174. Amend § 75.327(h) by removing the third sentence and the parenthetical reference and adding a new last sentence.

The addition reads as follows:

§ 75.327 General procurement standards.

* * * * *

(h) * * * See also § 75.213.

* * * * *

§ 75.329 [Amended]

175. In § 75.329, paragraph (c)(2)(i) and (iii), remove “state” and remove “publically” and add in its place “publicly”.

176. In § 75.351, revise the last sentence of paragraph (b) introductory text to read as follows:

§ 75.351 Subrecipient and contractor determinations.

* * * * *

(b) * * * Characteristics indicative of a procurement relationship between the non-Federal entity and a contractor are when the contractor:

* * * * *

177. In § 75.352, revise paragraphs (a)(1)(i), (iv), (vi), (vii), (viii), and (x) and (a)(2) and (4) to read as follows:

§ 75.352 Requirement for pass-through entities.

* * * * *

(a) * * *

(1) * * *

(i) Subrecipient name (which must match the name associated with its unique entity identifier;

* * * * *

(iv) Federal Award Date (see § 75.2 Federal award date) of award to the recipient by the HHS awarding agency;

* * * * *

(vi) Amount of Federal Funds Obligated by this action by the pass-through entity to the subrecipient;

(vii) Total Amount of Federal Funds Obligated to the subrecipient by the pass-through entity including the current obligation;

(viii) Total Amount of the Federal Award committed to the subrecipient by the pass-through entity;

* * * * *

(x) Name of HHS awarding agency, pass-through entity, and contract information for awarding official of the pass-through entity;

* * * * *

(2) All requirements imposed by the pass-through entity on the subrecipient so that the Federal award is used in accordance with Federal statutes, regulations and the terms and conditions of the Federal award;

* * * * *

(4) An approved federally recognized indirect cost rate negotiated between the subrecipient and the Federal Government or, if no such rate exists, either a rate negotiated between the pass-through entity and the subrecipient (in compliance with this part), or a de minimis indirect cost rate as defined in § 75.414(f);

* * * * *

178. Revise § 75.363 to read as follows:

§ 75.363 Methods for collection, transmission and storage of information.

In accordance with the May 2013 Executive Order on Making Open and Machine readable the New Default for Government Information, the HHS awarding agency and the non-Federal entity should, whenever practicable, collect, transmit, and store Federal award-related information in open and machine readable formats rather than in closed formats or on paper.

179. In § 75.372, revise paragraphs (a)(1) and (b) and add paragraph (c) to read as follows:

§ 75.372 Termination.

* * * * *

(a) * * *

(1) By the HHS awarding agency or pass-through entity, if the non-Federal entity fails to comply with the terms and conditions of the award;

* * * * *

(b) When an HHS awarding agency terminates a Federal award prior to the end of the period of performance due to the non-Federal entity's material failure to comply with the Federal award terms and conditions, the HHS awarding agency must report the termination to the OMB-designated integrity and performance system accessible through SAM (currently FAPIIS).

(1) The information required under this paragraph (b) is not to be reported to the designated integrity and performance system until after the non-Federal entity either—

(i) Has exhausted its opportunities to object or challenge the decision, see § 75.374; or

(ii) Has not, within 30 calendar days after being notified of the termination, informed the HHS awarding agency that it intends to appeal the HHS awarding agency's decision to terminate.

(2) If an HHS awarding agency, after entering information into the designated integrity and performance system about a termination, subsequently:

(i) Learns that any of the information is erroneous, the HHS awarding agency must correct the information in the system within three business days;

(ii) Obtains an update to that information that could be helpful to other Federal awarding agencies, the HHS awarding agency is strongly encouraged to amend the information in the system to incorporate the update in a timely way;

(3) HHS awarding agencies shall not post any information that will be made publicly available in the non-public segment of the designated integrity and performance system that is covered by a disclosure exemption under the Freedom of Information Act. If the non-Federal entity asserts within seven calendar days to the HHS awarding agency who posted the information, that some of the information made publicly available is covered by a disclosure exemption under the Freedom of Information Act, the HHS awarding agency who posted the information must remove the posting within seven calendar days of receiving the assertion. Prior to reposting the releasable information, the HHS agency must resolve the issue in accordance with the agency's Freedom of Information Act procedures.

(c) When a Federal award is terminated or partially terminated, both the HHS awarding agency or pass-through agency and the non-Federal entity remain responsible for compliance with the requirements of §§ 75.381 through 75.390.

180. In § 75.373, revise paragraph (b) to read as follows:

§ 75.373 Notification of termination requirement.

* * * * *

(b) If the Federal award is terminated for the non-Federal entity's material failure to comply with the Federal statutes, regulations, or terms and conditions of the Federal award, the notification must state that—

(1) The termination decision will be reported to the OMB-designated integrity and performance system accessible through SAM (currently FAPIIS);

(2) The information will be available in the OMB-designated integrity and performance system for a period of five years from the date of the termination, then archived;

(3) HHS awarding agencies that consider making a Federal award to the non-Federal entity during that five year period must consider that information in judging whether the non-Federal entity is qualified to receive the Federal award, when the Federal share of the Federal award is expected to exceed the simplified acquisition threshold over the period of performance;

(4) The non-Federal entity may comment on any information the OMB-designated integrity and performance system contains about the non-Federal entity for future consideration by HHS awarding agencies. The non-Federal entity may submit comments to the awardee integrity and performance portal accessible through SAM (currently CPARS).

(5) Federal awarding agencies will consider non-Federal entity comments when determining whether the non-Federal entity is qualified for a future Federal award.

* * * * *

§ 75.409 [Amended]

181. Amend § 75.409 introductory text by removing “subpart, certain sections in this subpart” and adding in its place “subtitle, other subtitles in this part”.

182. In § 75.414, revise paragraph (e)(3) to read as follows:

§ 75.414 Indirect (F&A) costs.

* * * * *

(e) * * *

(3) Appendix V to Part 75—State/Local Governmentwide Central Service Cost Allocation Plans;

* * * * *

§ 75.419 [Amended]

183. In § 75.419, amend paragraph (b) introductory text by removing “its” and adding in its place “their” before “cost accounting practices”.

184. In § 75.431, amend paragraph (h)(3) by removing “Federal Government's” and adding in its place “non-Federal entity” and revise paragraphs (i)(1) and (j).

The revisions read as follows:

§ 75.431 Compensation—fringe benefits.

* * * * *

(i) Severance pay. (1) Severance pay, also commonly referred to as dismissal wages, is a payment in addition to regular salaries and wages, by non-Federal entities to workers whose employment is being terminated. Costs of severance pay are allowable only to the extent that in each case, it is required by:

(i) Law;

(ii) Employer-employee agreement;

(iii) Established policy that constitutes, in effect, an implied agreement on the non-Federal entity's part; or

(iv) Circumstances of the particular employment.

* * * * *

(j) For IHEs only. (1) Fringe benefits in the form of undergraduate and graduate tuition or remission of tuition for individual employees are allowable, provided such benefits are granted in accordance with established non-federal entity policies, and are distributed to all non-Federal entity activities on an equitable basis. Tuition benefits for family members other than the employee are unallowable.

(2) Fringe benefits in the form of tuition or remission of tuition for individual employees not employed by IHEs are limited to the tax-free amount allowed per section 127 of the Internal Revenue Code as amended.

(3) IHEs may offer employees tuition waivers or tuition reductions, provided that the benefit does not discriminate in favor of highly compensated employees. Employees can exercise these benefits at other institutions according to institutional policy. See § 75.466 for treatment of tuition remission provided to students.

* * * * *

185. Amend § 75.439, by adding paragraph (b)(7) to read as follows:

§ 75.439 Equipment and other capital expenditures.

* * * * *

(b) * * *

(7) Equipment and other capital expenditures are unallowable as indirect costs. See § 75.436.

§ 75.448 [Amended]

186. Amend § 75.448(b)(3) by removing “there” and adding in its place “thereto”.

§ 75.449 [Amended]

187. In § 75.449, amend paragraph (b)(1) by removing “are defined in” and adding in its place “is defined as noted in”, and in paragraph (e) by removing “September 23” and adding in its place “July 1”.

§ 75.450 [Amended]

188. Amend § 75.450(c)(2)(iv) by removing “IRC secs.” and adding in its place “I.R.C. sections”.

189. Revise § 75.456 to read as follows:

§ 75.456 Participant support costs.

Participant support costs as defined in § 75.2 are allowable with the prior approval of the HHS awarding agency.

§ 75.459 [Amended]

190. In § 75.459, amend the section heading by removing “services” and adding in its place “service”.

191. In § 75.461, add paragraph (b)(3) to read as follows:

§ 75.461 Publication and printing costs.

* * * * *

(b) * * *

(3) The non-Federal entity may charge the Federal award before closeout for the costs of publication or sharing of research results if the costs are not incurred during the period of performance of the Federal award.

* * * * *

§ 75.465 [Amended]

192. Amend § 75.465(c) introductory text by removing the parentheses around “as explained in paragraph (b) of this section”.

§ 75.474 [Amended]

193. Amend § 75.474(d) by adding “(“Travel and Subsistence Expenses: Mileage Allowance”)” after “5 U.S.C. 5701-11”.

§ 75.501 [Amended]

194. Amend § 75.501(k) by removing “§ 75.215” and adding in its place “§ 75.216”.

§ 75.515 [Amended]

195. Amend § 75.515(b) by removing “or” and adding in its place “and” before “award agreements” in the first sentence.

196. In Appendix I to Part 75:

a. In section E:

i. Redesignate paragraph 3 as paragraph 4 and revise it; and

ii. Add a new paragraph 3;

b. In section F, revise paragraph 3.

The addition and revisions read as follows:

Appendix I to Part 75—Full Text of Notice of Funding Opportunity

* * * * *

E. * * *

3. For any Federal award under a notice of funding opportunity, if the HHS awarding agency anticipates that the total Federal share will be greater than the simplified acquisition threshold on any Federal award under a notice of funding opportunity may include, over the period of performance (see § 75.2 Simplified Acquisition Threshold), this section must also inform applicants:

i. That the HHS awarding agency, prior to making a Federal award with a total amount of Federal share greater than the simplified acquisition threshold, is required to review and consider any information about the applicant that is in the designated integrity and performance system accessible through SAM (currently FAPIIS) (see 41 U.S.C. 2313);

ii. That an applicant, at its option, may review information in the designated integrity and performance systems accessible through SAM and comment on any information about itself that the HHS awarding agency previously entered and is currently in the designated integrity and performance system accessible through SAM;

iii. That the HHS awarding agency will consider any comments by the applicant, in addition to the other information in the designated integrity and performance system, in making a judgment about the applicant's integrity, business ethics, and record of performance under Federal awards when completing the review of risk posed by applicants as described in § 75.205.

4. Anticipated Announcement and Federal Award Dates—Optional. This section is intended to provide applicants with information they can use for planning purposes. If there is a single application deadline followed by the simultaneous review of all applications, the HHS awarding agency can include in this section information about the anticipated dates for announcing or notifying successful and unsuccessful applicants and for having Federal awards in place. If applications are received and evaluated on a “rolling” basis at different times during an extended period, it may be appropriate to give applicants an estimate of the time needed to process an application and notify the applicant of the HHS awarding agency's decision.

F. * * *

3. Reporting—Required. This section must include general information about the type (e.g., financial or performance), frequency, and means of submission (paper or electronic) of post-Federal award reporting requirements. Highlight any special reporting requirements for Federal awards under this funding opportunity that differ (e.g., by report type, frequency, form/format, or circumstances for use) from what the HHS awarding agency's Federal awards usually require. HHS agencies must also describe in this section all relevant requirements such as those at 2 CFR 180.335 and 2 CFR 180.350. If the Federal share of any Federal award may include more than $500,000 over the period of performance, this section must inform potential applicants about the post award reporting requirements in Appendix XII.

* * * * *

197. Amend Appendix III to Part 75 as follows:

a. Add “(IHEs)” at the end of the appendix heading;

b. Redesignate paragraph A.1.b.(3) as paragraph A.1.a.(3);

c. In section C, by adding “ “Equal Employment Opportunity (30 FR 12319, 12935, 3 CFR 1964-1965 Comp., p. 339)” after “Executive Order 11246”; and adding “ “Amending Executive Order 11246 Relating to Equal Employment Opportunity,” ” after “Executive Order 11375”; and

d. In Section C.7, redesignate first paragraph as “a.” and revise the first sentence.

The revision reads as follows:

Appendix III to Part 75—Indirect (F&A) Costs, Identification and Assignment, and Rate Determination for Institutions of Higher Education (IHEs)

* * * * *

C. * * *

7. a. Except as provided in paragraph (c)(1) of § 75.414, HHS agencies must use the negotiated rates in effect at the time of the initial award throughout the life of the Federal award. * * *

* * * * *

198. Amend Appendix IV to Part 75 as follows:

a. In Section A., designate the second paragraph as Section A.2. and revise it;

b. In Section B.2.c, remove “contracts or” and add in its place “as”;

c. In Section B.2.e. amend the first sentence by removing “Federal Funding of direct costs” and add in its place “direct Federal funding” and remove “section A.3. of this Appendix” and add in its place “§ 75.414(a)”;

d. In Section B.3.g. amend the last sentence by removing “section A.3 of this Appendix” and adding in its place “§ 75.414(a)”;

e. In Section C.2.b. amend the first sentence by removing “(e)” and add in its place “(f)”;

f. In Section C.2.c. amend the first sentence by removing “(f)” and add in its place “(g)”;

g. In Section D.1. amend the first sentence by removing “subsection b” and add, in its place with “subsection 2”; and

h. In Section D.2. introductory text, remove the subject heading“Certificate.”

The revision reads as follows:

Appendix IV to Part 75—Indirect (F&A) Costs Identification and Assignment, and Rate Determination for Nonprofit Organizations

* * * * *

2. “Major nonprofit organizations” are defined in § 75.414(a). See indirect cost rate reporting requirements in sections B.2.e and B.3.g. of this appendix

* * * * *

199. Amend Appendix V to Part 75 as follows:

a. In Section A.2. by adding “or at their Web site at” after “Cost Allocation Services”; and

b. Revise Section E.2.

The revision reads as follows:

Appendix V to Part 75—State/Local Governmentwide Central Service Cost Allocation Plans

* * * * *

2. Allocated Central Services. For each allocated central service*, the plan must also include the following: a brief description of the service, an identification of the unit rendering the service and the operating agencies receiving the service, the items of expense included in the cost of the service, the method used to distribute the cost of the service to benefitted agencies, and a summary schedule showing the allocation of each service to the specific benefitted agencies. If any self-insurance funds or fringe benefits costs are treated as allocated (rather than billed) central services, documentation discussed in subsections 3.b. and c. must also be included.

* * * * *

Appendix VII to Part 75—[Amended]

200. Amend Appendix VII to Part 75, Section A.3. by adding “or at their Web site” after “Cost Allocation Services” in the last sentence.

Appendix VIII to Part 75—[Amended]

201. Amend Appendix VIII by designating each of the listed organizations as numbers 1 through 33.

Appendix X to Part 75—[Amended]

202. Amend Appendix X by removing “https://harvester.census.gov/facweb/Default.aspx”.

Appendix XI to Part 75—[Amended]

203. Amend Appendix XI by adding “e.g., for 2013 here:” in the parentheses before http”.

204. Add Appendix XII to Part 75 to read as follows:

Appendix XII—Award Term and Conditions for Recipient Integrity and Performance Matters

A. Reporting of Matters Related to Recipient Integrity and Performance

1. General Reporting Requirement

If the total value of your currently active grants, cooperative agreements, and procurement contracts from all Federal awarding agencies exceeds $10,000,000 for any period of time during the period of performance of this Federal award, then you as the recipient during that period of time must maintain the currency of information reported to the System for Award Management (SAM) that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

2. Proceedings About Which You Must Report

Submit the information required about each proceeding that:

a. Is in connection with the award or performance of a grant, cooperative agreement, or procurement contract from the Federal Government;

b. Reached its final disposition during the most recent five year period; and

c. If one of the following:

(1) A criminal proceeding that resulted in a conviction, as defined in paragraph 5 of this award term and condition;

(2) A civil proceeding that resulted in a finding of fault and liability and payment of a monetary fine, penalty, reimbursement, restitution, or damages of $5,000 or more;

(3) An administrative proceeding, as defined in paragraph 5 of this award term and condition, that resulted in a finding of fault and liability and your payment of either a monetary fine or penalty of $5,000 or more or reimbursement, restitution, or damages in excess of $100,000; or

(4) Any other criminal, civil, or administrative proceeding if:

(i) It could have led to an outcome described in paragraph 2.c.(1), (2), or (3) of this award term and condition;

(ii) It had a different disposition arrived at by consent or compromise with an acknowledgement of fault on your part; and

(iii) The requirement in this award term and condition to disclose information about the proceeding does not conflict with applicable laws and regulations.

3. Reporting Procedures

Enter in the SAM Entity Management area the information that SAM requires about each proceeding described in paragraph 2 of this award term and condition. You do not need to submit the information a second time under assistance awards that you received if you already provided the information through SAM because you were required to do so under Federal procurement contracts that you were awarded.

4. Reporting Frequency

During any period of time when you are subject to this requirement in paragraph 1 of this award term and condition, you must report proceedings information through SAM for the most recent five year period, either to report new information about any proceeding(s) that you have not reported previously or affirm that there is no new information to report. Recipients that have Federal contract, grant, and cooperative agreement awards with a cumulative total value greater than $10,000,000 must disclose semiannually any information about the criminal, civil, and administrative proceedings.

5. Definitions

For purposes of this award term and condition:

a. Administrative proceeding means a non-judicial process that is adjudicatory in nature in order to make a determination of fault or liability (e.g., Securities and Exchange Commission Administrative proceedings, Civilian Board of Contract Appeals proceedings, and Armed Services Board of Contract Appeals proceedings). This includes proceedings at the Federal and State level but only in connection with performance of a Federal contract or grant. It does not include audits, site visits, corrective plans, or inspection of deliverables.

b. Conviction, for purposes of this award term and condition, means a judgment or conviction of a criminal offense by any court of competent jurisdiction, whether entered upon a verdict or a plea, and includes a conviction entered upon a plea of nolo contendere.

c. Total value of currently active grants, cooperative agreements, and procurement contracts includes—

(1) Only the Federal share of the funding under any Federal award with a recipient cost share or match; and

(2) The value of all expected funding increments under a Federal award and options, even if not yet exercised

B. [Reserved]

PART 87—EQUAL TREATMENT FOR FAITH-BASED ORGANIZATIONS

205. The authority citation for part 87 continues to read as follows:

Authority: 5 U.S.C. 301.

§ 87.1 [Amended]

206. Amend § 87.1(b) in the last sentence by removing “45 CFR parts 74, 92, and 96” and adding in its place “45 CFR parts 75 and 96”.

§ 87.2 [Amended]

207. Amend § 87.2(b) in the last sentence by removing “45 CFR parts 74, 92, and 96” and adding in its place “45 CFR parts 75 and 96”.

PART 95—GENERAL ADMINISTRATION—GRANT PROGRAMS (PUBLIC ASSISTANCE, MEDICAL ASSISTANCE AND STATE CHILDREN'S HEALTH INSURANCE PROGRAMS)

208. The authority citation for part 95 continues to read as follows:

Authority: 5 U.S.C. 301, 42 U.S.C. 622(b), 629b(a), 652(a), 652(d), 654A, 671(a), 1302, and 1396a(a).

§ 95.613 [Amended]

209. Amend § 95.613(a) in the first sentence by removing “part 92” and adding in its place “part 75” and in the second sentence by removing “§ 92.36(c)” and adding in its place “§ 75.328”.

§ 95.621 [Amended]

210. Amend § 95.621(d) by removing “part 92” and adding in its place “part 75”.

§ 95.705 [Amended]

211. Amend § 95.705(a) in the last sentence by removing “part 92” and adding in its place “part 75”.

§ 95.707 [Amended]

212. Amend § 95.707(a) by removing “§ 92.32, Equipment” and adding in its place “§ 75.320”.

PART 98—CHILD CARE AND DEVELOPMENT FUND

213. The authority citation for part 98 continues to read as follows:

Authority: 42 U.S.C. 618, 9858.

§ 98.60 [Amended]

214. Amend § 98.60(d)(4)(ii) by removing “45 CFR 92.3, Obligations and Outlays (expenditures)” and adding in its place “45 CFR 75.2”.

§ 98.84 [Amended]

215. Amend § 98.84:

a. In paragraph (d)(1) by removing “45 CFR 92.31” and adding in its place “45 CFR 75.318”;

b. In paragraph (d)(2) by removing “45 CFR 92.31(c)” and adding in its place 45 CFR 75.318(c)”;

c. In paragraph (d)(3) by removing “45 CFR 92.31(a)” and adding in its place 45 CFR 75.318(a)”;

d. in paragraph (d)(4) by removing “45 CFR 92.22” and adding in its place “45 CFR part 75, subpart E”;

e. In paragraph (d)(5) by removing “45 CFR 92.25” and adding in its place “45 CFR 75.307”; and

f. In paragraph (d)(6) by removing “45 CFR 92.36” and adding in its place “45 CFR 75.326 through 75.340”.

PART 261—ENSURING THAT RECIPIENTS WORK

216. The authority citation for part 261 continues to read as follows:

Authority: 42 U.S.C. 601, 602, 607, and 609; P.L. 109-171.

217. Amend § 261.64(c) by removing “the single audit under OMB Circular A-133” and adding in its place “45 CFR part 75, subpart F”.

PART 262—ACCOUNTABILITY PROVISIONS—GENERAL

218. The authority citation for part 262 continues to read as follows:

Authority: 31 U.S.C. 7501 et seq.; 42 U.S.C. 606, 609, and 610; Pub. L. 109-171.

219. Amend § 262.3 in paragraph (a) by removing “OMB Circular A-133” and adding in its place “45 CFR part 75, subpart F” and in paragraph (f) by removing “§ 92.42 of this title” and adding in its place “45 CFR 75.361 through 75.370”.

PART 263—EXPENDITURES OF STATE AND FEDERAL TANF FUNDS

220. The authority citation for part 263 continues to read as follows:

Authority: 42 U.S.C. 604, 607, 609, and 862a; Pub. L. 109-171.

§ 263.2 [Amended]

221. Amend § 263.2(e)(1) by removing “45 CFR 92.3 and 92.24” and adding in its place “45 CFR 75.2 and 75.306”.

§ 263.11 [Amended]

222. Amend § 263.11(b) by removing “the provisions of part 92 of this title, or OMB Circular A-87” and adding in its place “or part 75 of this title”.

223. Amend § 263.14 by removing “OMB Circular A-87 (2 CFR part 225)” and adding in its place “subpart E of part 75 of this title”.

PART 265—DATA COLLECTION AND REPORTING REQUIREMENTS

224. The authority citation for part 265 continues to read as follows:

Authority: 42 U.S.C. 603, 605, 607, 609, 611, and 613; Pub. L. 109-171.

§ 265.7 [Amended]

225. Amend § 265.7 in paragraph (d)(4) by removing “§ 92.20(a) of this title” and adding in its place “§ 75.302(a) of this title” and in paragraph (f) by removing “§ 92.42 of this title” and adding in its place “§§ 75.361 through 75.370 of this title”.

PART 286—TRIBAL TANF PROVISIONS

226. The authority citation for part 286 continues to read as follows:

Authority: 42 U.S.C. 601, 604, and 612; Public Law 111-5.

§ 286.30 [Amended]

227. Amend § 286.30 in paragraph (c) by removing “45 CFR part 92” and adding in its place “45 CFR part 75” and in paragraph (f)(2) by removing “45 CFR part 92 and OMB Circulars A-87 and A-133” and adding in its place “45 CFR part 75”.

§ 286.45 [Amended]

228. Amend § 286.45 in paragraph (c) by removing “OMB Circular A-87” and adding in its place “45 CFR part 75, subpart E” and in paragraph (d) by removing “OMB Circular A-133 and in 45 CFR part 92” and adding in its place “45 CFR part 75”.

§ 286.200 [Amended]

229. Amend § 286.200(b) by removing “45 CFR part 92, OMB Circulars A-87 and A-133” and adding in its place “45 CFR part 75”.

§ 286.205 [Amended]

230. Amend § 286.205 in paragraph (b)(3)(iv) by removing “45 CFR part 92 and all relevant OMB circulars” and adding in its place “45 CFR part 75” and in paragraph (c) by removing “45 CFR part 92 and all relevant OMB circulars” and adding in its place “45 CFR part 75”.

§ 286.270 [Amended]

231. Amend § 286.270(b) by removing “45 CFR part 92, OMB Circulars A-87 and A-133” and adding in its place “45 CFR part 75”.

PART 287—THE NATIVE EMPLOYMENT WORKS (NEW) PROGRAM

232. The authority citation for part 287 continues to read as follows:

Authority: 42 U.S.C. 612.

§ 287.60 [Amended]

233. Amend § 287.60 in paragraph (a) by removing “45 CFR 92.41” and adding in its place 45 CFR 75.341” and in paragraph (b) by removing 45 CFR 92.26” and adding in its place “45 CFR part 75, subpart F”.

PART 301—STATE PLAN APPROVAL AND GRANT PROCEDURES

234. The authority citation for part 301 continues to read as follows:

Authority: 42 U.S.C. 651 through 658, 659a, 660, 664, 666, 667, 1301, and 1302.

§ 301.15 [Amended]

235. Amend § 301.15 by revising paragraph (e) to read as follows:

§ 301.15 Grants.

* * * * *

(e) General administrative requirements. With the following exceptions, the provisions of part 75 of this title, establishing uniform administrative requirements and cost principles, shall apply to all grants made to States under this part:

45 CFR Part 75

45 CFR 75.306 Cost sharing or matching.

45 CFR 75.341 Financial reporting.

* * * * *

PART 302—STATE PLAN REQUIREMENTS

236. The authority citation for part 302 continues to read as follows:

Authority: 42 U.S.C. 651 through 658, 659a, 660, 664, 666, 667, 1302, 1396a(a)(25), 1396b(d)(2), 1396b(o), 1396b(p), and 1396(k).

§ 302.14 [Amended]

237. Amend § 302.14 by removing “45 CFR part 74” and adding in its place “45 CFR part 75”.

§ 302.15 [Amended]

238. Amend § 302.15(a)(7) by removing “45 CFR part 74” and adding in its place “45 CFR part 75”.

PART 303—STANDARDS FOR PROGRAM OPERATIONS

239. The authority citation for part 303 continues to read as follows:

Authority: 42 U.S.C. 651 through 658, 659a, 660, 663, 664, 666, 667, 1302, 1396a(a)(25), 1396b(d)(2), 1396b(o), 1396b(p) and 1396(k).

§ 303.11 [Amended]

240. Amend § 303.11(d) by removing “45 CFR part 74” and adding in its place “45 CFR part 75”.

PART 304—FEDERAL FINANCIAL PARTICIPATION

241. The authority citation for part 304 continues to read as follows:

Authority: 42 U.S.C. 651 through 655, 657, 1302, 1396a(a)(25), 1396b(d)(2), 1396b(o), 1396b(p), and 1396(k).

§ 304.10 [Amended]

242. Amend § 304.10 by removing “part 74 of this title (with the exception of 45 CFR 74.23, Cost Sharing or Matching and 45 CFR 74.52, Financial Reporting)” and adding in its place “part 75 of this title (with the exception of 45 CFR 75.306 and 75.341)”.

§ 304.20 [Amended]

243. Amend § 304.20(b)(1)(iii) by removing “45 CFR 74.40 et seq.” and adding in its place “45 CFR 75.326 through 75.340”.

§ 304.25 [Amended]

244. Amend § 304.25(a) in the first sentence by removing “part 74 of this title” and adding in its place “part 75 of this title”.

PART 309—TRIBAL CHILD SUPPORT ENFORCEMENT (IV-D) PROGRAM

245. The authority citation for part 309 continues to read as follows:

Authority: 42 U.S.C. 655(f), 1302.

§ 309.85 [Amended]

246. Amend § 309.85(b) by removing “45 CFR 74.53” and adding in its place “45 CFR 75.361 through 75.370”.

§ 309.130 [Amended]

247. Amend § 309.130 in paragraph (d)(3) by removing “45 CFR 74.23” and adding in its place “45 CFR 75.306” and in paragraph (h) by removing “part 74” and adding in its place “part 75”.

§ 309.145 [Amended]

248. Amend § 309.145 in paragraph (a)(3) introductory text by removing “45 CFR part 74” and adding in its place “45 CFR part 75” and in paragraph (o) introductory text by removing “OMB Circular A-87” and adding in its place “45 CFR part 75, subpart E”.

§ 309.150 [Amended]

249. Amend § 309.150(d) by removing “OMB Circular A-87” and adding in its place “45 CFR part 75, subpart E”.

§ 309.160 [Amended]

250. Amend § 309.160 by removing “OMB Circular A-133,‘Audits of States, Local Governments, and Non-Profit Organizations' and 45 CFR part 74' ” and adding in its place “45 CFR part 75”.

PART 400—REFUGEE RESETTLEMENT PROGRAM

251. The authority citation for part 400 continues to read as follows:

Authority: Section 412(a)(9), Immigration and Nationality Act (8 U.S.C. 1522(a)(9)).

§ 400.11 [Amended]

252. Amend § 400.11(c) by removing “§ 74.73(a)” and adding in its place “§ 75.341”.

§ 400.28 [Amended]

253. Amend § 400.28 in paragraph (a) introductory text by removing “part 74, Subpart D of this title” and adding in its place “45 CFR 75.361 through 75.370”.

PART 1000—INDIVIDUAL DEVELOPMENT ACCOUNT RESERVE FUNDS ESTABLISHED PURSUANT TO GRANTS FOR ASSETS FOR INDEPENDENCE

254. The authority citation for part 1000 continues to read as follows:

Authority: 42 U.S.C. 604 nt.

§ 1000.3 [Amended]

255. Amend § 1000.3 in paragraph (a) by removing “45 CFR part 74” and adding in its place “45 CFR part 75” and in paragraph (b) by removing “45 CFR part 92” and adding in its place “45 CFR part 75”.

PART 1301—HEAD START GRANTS ADMINISTRATION

256. The authority citation for part 1301 continues to read as follows:

Authority: 42 U.S.C. 9801 et seq.

§ 1301.10 [Amended]

257. Amend § 1301.10:

a. In paragraph (a) by removing “45 CFR part 74 Administration of grants” and “45 CFR part 75 Informal grant appeals procedures (indirect cost rates and other cost allocations)” and adding in alphanumeric order “45 CFR part 75 Uniform Administrative Requirements, Cost Principles and Audit Requirements for HHS Awards”; and

b. In paragraph (b):

i. In the introductory text by removing “45 CFR part 74” and adding in its place “45 CFR part 75”;

ii. In paragraph (b)(1), by removing “§ 74.15 of part 74” and adding in its place “§ 75.334 of part 75”; and

iii. In paragraph (b)(2) by removing “§ 74.61 of part 74” and adding in its place “subpart F of part 75”.

PART 1304—PROGRAM PERFORMANCE STANDARDS FOR THE OPERATION OF HEAD START PROGRAMS BY GRANTEE AND DELEGATE AGENCIES

258. The authority citation for part 1304 continues to read as follows:

Authority: 42 U.S.C. 9801 et seq.

§ 1304.60 [Amended]

259. Amend § 1304.60(f) by removing “45 CFR part 74 or part 92” and adding in its place “45 CFR part 75”, and removing “45 CFR 74.61(a)(1), 45 CFR 74.62 and 45 CFR 92.43(a)” and adding in its place “45 CFR 75.371 through 75.372”.

PART 1309—HEAD START FACILITIES PURCHASE, MAJOR RENOVATION AND CONSTRUCTION

260-261. The authority citation for part 1309 continues to read as follows:

Authority: 42 U.S.C. 9801 et seq.

§ 1309.21 [Amended]

262. Amend § 1309.21(e) by removing “45 CFR parts 74 or 92” and adding in its place “45 CFR part 75”.

§ 1309.22 [Amended]

263. Amend § 1309.22(c) by removing “45 CFR 74.2, or, if part 92 is applicable, to ACF's share as defined in 45 CFR 92.3” and adding in its place “45 CFR 75.2”.

§ 1309.31 [Amended]

264. Amend § 1309.31(b) by removing “45 CFR part 74 and 45 CFR part 92” and adding in its place “45 CFR part 75”.

§ 1309.32 [Amended]

265. Amend § 1309.32(b) by removing “45 CFR parts 74 and 92” and adding in its place “45 CFR part 75”.

§ 1309.34 [Amended]

266. Amend § 1309.34 by removing “45 CFR part 74 and 45 CFR part 92” and adding in its place “45 CFR part 75”.

§ 1309.43 [Amended]

267. Amend § 1309.43 by removing “45 CFR part 74 and 45 CFR part 92” and adding in its place “45 CFR part 75”.

§ 1309.52 [Amended]

268. Amend § 1309.52(a) by removing “45 CFR parts 74 or 92” and adding in its place “45 CFR part 75”.

PART 1321—GRANTS TO STATE AND COMMUNITY PROGRAMS ON AGING

269. The authority citation for part 1321 continues to read as follows:

Authority: 42 U.S.C. 3001 et seq.; title III of the Older Americans Act, as amended.

270. Amend § 1321.5 by revising paragraph (b) and removing and reserving paragraph (g).

The revision reads as follows:

§ 1321.5 Applicability of other regulations.

* * * * *

(b) 45 CFR part 75—Uniform Administrative Requirements, Cost Principles, and Audit Requirements for HHS Awards, except § 75.206

* * * * *

§ 1321.67 [Amended]

271. Amend § 1321.67(b)(1) by removing “45 CFR 92.25(g) (2) and (3)” and adding in its place “45 CFR 75.307(e)(2) and (3)”.

§ 1321.73 [Amended]

272. Amend § 1321.73 by removing “45 CFR 92.25(g)(2)” and adding in its place “§ 75.307(e)(3)”, removing “§ 92.25(g)(3)” and adding in its place “§ 75.307(e)(2), and removing “§ 92.25(g)(1)” and adding in its place “§ 75.307(e)(1)”.

PART 1326—GRANTS TO INDIAN TRIBES FOR SUPPORT AND NUTRITION SERVICES

273. The authority citation for part 1326 continues to read as follows:

Authority: 42 U.S.C. 3001; Title VI, Part A of the Older Americans Act.

274. In § 1326.5, remove and reserve paragraph (b) and revise paragraph (c).

The revision reads as follows:

§ 1326.5 Applicability of other regulations.

* * * * *

(c) 45 CFR part 75—Uniform Administrative Requirements, Cost Principles, and Audit Requirements for HHS Awards.

* * * * *

PART 1328—GRANTS FOR SUPPORTIVE AND NUTRITIONAL SERVICES TO OLDER HAWAIIAN NATIVES

275. The authority citation for part 1328 continues to read as follows:

Authority: 42 U.S.C. 3001; Title VI Part B of the Older Americans Act.

276. In § 1328.5, remove and reserve paragraph (b) and revise paragraph (c).

The revision reads as follows:

§ 1328.5 Applicability of other regulations.

* * * * *

(c) 45 CFR part 75—Uniform Administrative Requirements, Cost Principles, and Audit Requirements for HHS Awards.

* * * * *

PART 1336—NATIVE AMERICAN PROGRAMS

277. The authority citation for part 1336 continues to read as follows:

Authority: 42 U.S.C. 2991 et seq.

§ 1336.50 [Amended]

278. In § 1336.50, amend paragraph (a) by removing “45 CFR part 74— Administration of grants” and “45 CFR part 75—Informal grant appeals procedures (indirect cost rates and other cost allocations)” and adding in alphanumeric order “45 CFR part 75—Uniform Administrative Requirements, Cost Principles, and Audit Requirements for HHS Awards” and amend paragraph (f) by removing “§ 74.3 of this title” and adding in its place “§ 75.2 of this title”

§ 1336.52 [Amended]

279. Amend § 1336.52(b) by removing “45 CFR 74.110-74.116” and adding in its place “45 CFR 75.371 through 75.380”.

§ 1336.77 [Amended]

280. Amend § 1336.77 in paragraph (a)(1) by removing “45 CFR part 74” and adding in its place “45 CFR part 75, subpart E” and in paragraph (b) by removing “45 CFR part 74” and adding in its place “45 CFR part 75”.

PART 1355—GENERAL

281. The authority citation for part 1355 continues to read as follows:

Authority: 42 U.S.C. 620 et seq., 42 U.S.C. 670 et seq.; 42 U.S.C. 1302.

282. Amend § 1355.30 by revising paragraph (i) to read as follows:

§ 1355.30 Other applicable regulations.

* * * * *

(i) 45 CFR part 75—Uniform Administrative Requirements, Cost Principles, and Audit Requirements for HHS Awards. Part 75 of this title is applicable to title IV-B programs and the John H. Chafee Foster Care Independence Program under Section 477 of the Act that are operated by States and/or Tribes. Part 75 of this title is applicable to title IV-E foster care and adoption assistance programs operated by a State title IV-E agency, except that section 75.306 Cost sharing or matching and section 75.341 Financial reporting do not apply. Part 75 of this title is applicable to title IV-E foster care and adoption assistance programs operated by a Tribal title IV-E agency pursuant to section 479B, except that section 75.341 and the sections specified in § 1356.68 do not apply to a Tribal title IV-E agency.

* * * * *

PART 1357—REQUIREMENTS APPLICABLE TO TITLE IV-B

283. The authority citation for part 1357 continues to read as follows:

Authority: 42 U.S.C. 620 et seq., 42 U.S.C. 670 et seq.; 42 U.S.C. 1302.

§ 1357.30 [Amended]

284. Amend § 1357.30 in paragraph (d) by removing “45 CFR 92.43 and 92.44” and adding in its place “45 CFR 75.371 through 75.372” and in paragraph (e) introductory text by removing “45 CFR part 92” and adding in its place “45 CFR part 75”.

§ 1357.40 [Amended]

285. In § 1357.40, amend paragraph (d)(5)(i) by removing “45 CFR 92.43 and 92.44” and adding in its place “45 CFR 75.371 through 75.372” and amend paragraph (d)(5)(ii) introductory text by removing “45 CFR part 92” and adding in its place “45 CFR part 75”.

[FR Doc. 2015-32101 Filed 1-19-16; 8:45 am]

BILLING CODE 4150-24-P